OFFICE OF PERSONNEL MANAGEMENT

2006 Nonforeign Area Cost-of-Living Allowance Survey Report: Alaska and Washington, DC, Areas

AGENCY: U.S. Office of Personnel Management.

ACTION: Notice.

SUMMARY: This notice publishes the “2006 Nonforeign Area Cost-of-Living Allowance Survey Report: Alaska and Washington, DC, Areas.” The Federal Government uses the results of surveys such as these to set cost-of-living allowance (COLA) rates for General Schedule, U.S. Postal Service, and certain other Federal employees in Alaska, Hawaii, Guam and the Northern Mariana Islands, Puerto Rico, and the U.S. Virgin Islands. This report contains the results of the COLA surveys conducted by the U.S. Office of Personnel Management in Anchorage, Fairbanks, and Juneau, Alaska; and in the Washington, DC, area during the spring and early summer of 2006.

DATES: Comments on this report must be received on or before March 3, 2008.

ADDRESSES: Send or deliver comments to Charles D. Grimes III, Deputy Associate Director for Performance Management and Pay Systems, Strategic Human Resources Policy Division, U.S. Office of Personnel Management, Room 7300B, 1900 E Street, NW., Washington, DC 20415-8200; fax: (202) 606-4264; or e-mail: COLA@opm.gov.

FOR FURTHER INFORMATION CONTACT: J. Stanley Austin, (202) 606-2838; fax: (202) 606-4264; or e-mail: COLA@opm.gov.

SUPPLEMENTARY INFORMATION: Section 591.229 of title 5, Code of Federal Regulations, requires the U.S. Office of Personnel Management (OPM) to publish nonforeign area cost-of-living allowance (COLA) survey summary reports in the Federal Register. We are publishing the complete “2006 Nonforeign Area Cost-of-Living Allowance Survey Report: Alaska and Washington, DC, Areas” with this notice. The report contains the results of the COLA surveys we conducted in Anchorage, Fairbanks, and Juneau, Alaska; and in the Washington, DC, area during the spring and early summer of 2006.

Survey Results

Using an index scale with Washington, DC, area living costs equal to 100, we computed index values of relative prices in the Anchorage, Fairbanks, Juneau, and Rest of the State of Alaska COLA areas. Then we added an adjustment factor of 7.0 to the Anchorage price index and 9.0 to the other Alaska price indexes and rounded the results to the nearest whole percentage point. According to the results, the COLA rate for the Rest of the State of Alaska COLA area should remain unchanged, but the COLA rates for Anchorage, Fairbanks, and Juneau should decrease. Section 591.228(c) limits decreases to 1 percentage point in a 12-month period. OPM proposes to reduce those rates no sooner than 12 months after the effective date of the last reduction.

Office of Personnel Management
Linda M. Springer,
Director.

2006 Nonforeign Area Cost-of-Living Allowance Survey Report: Alaska and Washington, DC, Areas

Table of Contents

Executive Summary

1. Introduction

1.1 Report Objectives

2. Preparing for the Survey

2.1 COLA Advisory Committees

2.2 Pre-Survey Meetings

2.3 Survey Item Selection

2.3.1 Special Considerations

2.4 Outlet Selection

2.5 Geographic Coverage

3. Conducting the Survey

3.1 Pricing Period

3.2 Non-Housing Price Data Collection

3.2.1 Data Collection Teams

3.2.2 Data Collection Process

3.3 Housing (Rental) Price Data Collection

4. Analyzing the Results

4.1 Data Review

4.2 Special Price Computations

4.2.1 K-12 Private Education

4.2.2 Health Insurance

4.2.3 Water Utilities

4.2.4 Energy Utilities Model

4.2.5 Tire Prices

4.2.6 Renters' Insurance

4.2.7 Rental Data Hedonic Models

4.3 Averaging Prices by Item and Area

4.4 Computing Price Indexes

4.4.1 Geometric Means

4.4.2 Special Private Education Computations

4.5 Applying Consumer Expenditure Weights

4.6 Computing the Overall Price Index for Rest of the State of Alaska

5. Final Results

6. Post Survey Meetings

List of Appendices

Appendix 1: Publication in the Federal Register of Prior Survey Results: 1990-2005

Appendix 2: Estimated DC Area Middle Income Annual Consumer Expenditures

Appendix 3: COLA Survey Items and Descriptions

Appendix 4: COLA Rental Survey Data Collection Elements

Appendix 5: Utility Usage and Calculations

Appendix 6: Hedonic Rental Data Equations and Results

Appendix 7: Final Living-Cost Results for Anchorage, Fairbanks, and Juneau, AK

Appendix 8: Final Living-Cost Results for the Rest of the State of Alaska

Executive Summary

The Government pays cost-of-living allowances (COLAs) to Federal employees in nonforeign areas in consideration of living costs significantly higher than those in the Washington, DC, area. The Office of Personnel Management (OPM) conducts living-cost surveys to set the COLA rates. The methodology for conducting these surveys is prescribed in regulation at subpart B of part 591 of title 5 of the Code of Federal Regulations.

This report provides the results of the COLA surveys OPM conducted in the spring and early summer of 2006 in Anchorage, Fairbanks, and Juneau, Alaska; and in the Washington, DC, area. The report details our comparison of living costs in the Alaska areas with living costs in the Washington, DC, area.

For the surveys, we contacted about 930 outlets and collected approximately 4,300 non-rental prices on more than 320 items representing typical consumer purchases. We also collected about 1,800 rental prices. We then combined the data using consumer expenditure information from the Bureau of Labor Statistics. The final results are living-cost indexes, shown in Table 1. These indexes compare living costs in the Alaska COLA areas to those in the Washington, DC, area. The index for the DC area (not shown) is 100.00 because it is, by law, the reference area. The living-cost indexes shown in Table 1 include the adjustment factor prescribed at 5 CFR 591.227.

Table 1.—Final Living-Cost Comparison Indexes
Allowance area | Index
Anchorage | 109.81
Fairbanks | 118.90
Juneau | 120.08
Rest of the State of Alaska | 132.82

1. Introduction

1.1 Report Objectives

This report provides the results of the 2006 Alaska nonforeign area cost-of-living allowance (COLA) survey conducted by the Office of Personnel Management (OPM) in the spring and early summer of 2006. (Appendix 1 lists prior survey reports and their publication dates.) In addition to providing the results, the report describes how we prepared for and conducted the survey and analyzed the results. The results show comparative living-cost differences between the Alaska COLA areas, i.e., Anchorage, Fairbanks, Juneau, and the Rest of the State of Alaska, and the Washington, DC, area. By law, Washington, DC, is the base or “reference” area for the COLA program.

2. Preparing for the Survey

2.1 COLA Advisory Committees

Before conducting the Alaska survey, OPM established COLA Advisory Committees (CACs) in Anchorage, Fairbanks, and Juneau. The settlement of Caraballo, et al. v. United States, No. 1997-0027 (D.V.I.), August 17, 2000, provides for employee involvement in the administration of the COLA program. As in previous surveys, we found it valuable to involve employee and agency representatives in planning and conducting the surveys and reviewing the results.

Each CAC is composed of approximately 12 agency and employee representatives from the survey area and 2 OPM representatives. The functions of the CACs include the following:

—Advising and assisting OPM in planning COLA surveys;

—Providing or arranging for data collection observers during COLA surveys;

—Advising and assisting OPM in reviewing survey data;

—Advising OPM on its COLA program administration, including survey methodology;

—Assisting OPM in disseminating information to affected employees about the surveys and the COLA program; and

—Advising OPM on special situations or conditions, such as hurricanes and earthquakes, as they relate to OPM's authority to conduct interim surveys or implement some other change in response to conditions caused by a natural disaster or similar emergency.

2.2 Pre-Survey Meetings

To help us prepare for the COLA surveys, the CACs held 3-day meetings in Anchorage, Fairbanks, and Juneau. The CACs reviewed the preliminary outlet and item lists developed by OPM for the surveys. The committee members researched the outlets and availability and appropriateness of the items in each area and made recommendations to us concerning the survey. We incorporated these recommendations into the survey design.

We found the work of the CACs to be extremely helpful and informative. The CACs' knowledge of the local area, the popularity of items and outlets, and other information about the COLA area were invaluable in helping us plan the survey.

2.3 Survey Item Selection

As described in Sections 2.1 and 2.2, we consulted with the CACs as we selected survey items. We identified items to reflect a wide array of items consumers typically purchase. To determine what consumers purchase, OPM uses the Bureau of Labor Statistics (BLS) 2002/2003 Consumer Expenditure Survey (CES). We aggregated CES expenditures into the following nine major expenditure groups (MEGs):

—Food,

—Shelter and Utilities,

—Household Furnishings and Supplies,

—Apparel,

—Transportation,

—Medical,

—Recreation,

—Education and Communication, and

—Miscellaneous.

We further subdivided each MEG into primary expenditure groups (PEGs). In all, there were 45 PEGs. For example, we subdivided Food into the following nine PEGs:

—Cereals and Bakery Products;

—Meats, Poultry, Fish, and Eggs;

—Dairy Products;

—Fresh Fruits and Vegetables;

—Processed Foods;

—Other Food at Home;

—Nonalcoholic Beverages;

—Food Away from Home; and

—Alcoholic Beverages.

To select survey items, we chose a sufficient number of items to represent each PEG and reduce overall price index variability. To do this, we applied the following guidelines: Each survey item should be:

—Relatively important (i.e., represent a fairly large expenditure) within the PEG;

—Relatively easy to find in both COLA and DC areas;

—Relatively common, i.e., what people typically buy;

—Relatively stable over time, e.g., not a fad item; and

—Subject to similar supply and demand functions.

In all, we selected over 320 non-housing items to survey. Appendix 2 shows how OPM organized the CES data into MEGs and PEGs, identifies the Detailed Expenditure Categories (DECs) for which we chose survey items, and shows estimated DC area middle income annual consumer expenditures for each DEC and higher level of aggregations.

Appendix 3 lists the items we surveyed and their descriptions. Each of these items is specifically described with an exact brand, model, type, and size whenever practical. Thus, we priced exactly the same items or the same quality and quantity of items in both the COLA and DC areas. For example, we priced a 10.5-ounce can of Campbell's Chicken Noodle Soup in both the COLA and DC areas because it is typical of canned soups and consumers commonly purchase it.

2.3.1 Special Considerations

Health Insurance: It is not practical to compare the prices of exactly the same quality and quantity of health insurance between the COLA and Washington, DC, areas because the same array of plans is not offered in each area, and a significant proportion of Federal employees in both the COLA and DC areas subscribe to plans not available nationwide. To compare the employee health benefits premiums of these often highly different plans, OPM would have to adjust for differences in benefits and coverage. Research conducted by the parties prior to the Caraballo settlement indicated this would not be feasible.

Therefore, OPM uses the non-Postal Service employee's share of the Federal Employees Health Benefits premiums by plan for each plan offered in each area. OPM maintains these data in its Central Personnel Data File (CPDF), including the number of white-collar Federal employees enrolled in each plan. As described in Section 4.2.3, we used these data to compute the average “price” of health insurance for Federal employees in the COLA and DC areas.

Housing: For housing items, OPM surveys rental rates for specific kinds or classes of housing and collects detailed information about each housing unit. OPM surveys the following classes of housing:

—Four bedroom, single family unit, not to exceed 3200 square feet;

—Three bedroom, single family unit, not to exceed 2600 square feet;

—Two bedroom, single family unit, not to exceed 2200 square feet;

—Three bedroom apartment unit, not to exceed 2000 square feet;

—Two bedroom apartment unit, not to exceed 1800 square feet; and

—One bedroom apartment unit, not to exceed 1400 square feet.

For each housing unit we surveyed, we obtained approximately 80 characteristics about the unit. For example, we determined the number of bedrooms, bathrooms, square footage, whether there was a garage, air conditioning, security systems, and recreational activities. Appendix 4 lists the types of detailed information we collected. We did not collect homeowner data, such as mortgage payments, maintenance expenses, or insurance. Under the Caraballo settlement, the parties agreed to adopt a rental equivalence approach similar to the one BLS uses for the Consumer Price Index. Rental equivalence compares the shelter value (rental value) of owned homes, rather than total owner costs, because the latter are influenced by the investment value of the home (i.e., influenced by what homeowners hope to realize as a profit when they sell their homes). As a rule, living-cost surveys do not compare how consumers invest their money.

In the 2006 survey, OPM surveyed rents and used them to estimate homeowner rental values (i.e., rental equivalence). In late 2004 and 2005, OPM conducted special research, the General Population Rental Equivalence Survey (GPRES), to obtain additional rent and rental equivalence information. The goal was to determine whether OPM should adjust the rent index before using it to estimate homeowner rental values. The analyses showed that no adjustments should be made. Therefore, OPM's use of the rents to estimate rental equivalence is appropriate. OPM published the GPRES results in a Federal Register notice on July 31, 2006, at 71 FR 43228.

Although we surveyed rental rates for the same classes of housing in each area, the type, style, size, quality, and other 80-plus characteristics of each unit varied within each area and between the COLA and DC areas. As described in Section 4.2.6, we used special statistical analyses to hold these characteristics constant between the COLA and Washington, DC, areas to make rental price comparisons.

2.4 Outlet Selection

Just as it is important to select commonly-purchased items and survey the same items in both the DC area and COLA areas, it is important to select outlets frequented by consumers and find comparable outlets in both the COLA and DC areas. To identify comparable outlets, OPM categorizes outlets by type (e.g., grocery store, convenience store, discount store, hardware store, auto dealer, and catalog outlet) and then surveys only specific items at each outlet type. For example, OPM surveys grocery items at supermarkets in all areas because most people purchase their groceries at such stores and because supermarkets exist in nearly all areas. Selecting comparable outlets is particularly important because significant price variations may occur between dissimilar outlets (e.g., comparing the price of milk at a supermarket with the price of milk at a convenience store).

We used the above classification criteria and existing data sources, including previous COLA surveys, phonebooks, and various business listings, to develop initial outlet lists for the survey. We provided these lists to the CACs and consulted with them on outlet selection. The committees helped us refine the outlet lists and identify other/additional outlets where local consumers generally purchase the survey items.

We also priced some items by catalog, and when we did, we priced the same items by catalog in the COLA areas and in the DC area. We priced 11 items by catalog in the Alaska areas. All catalog prices included any charges for shipping and handling and all applicable taxes, including excise taxes.

In all, we surveyed prices from approximately 930 outlets. In the COLA survey areas, we attempted to survey three popular outlets of each type, to the extent practical. For some outlet types, such as local phone service, there were not three outlets. In some areas, there was not a sufficient number of businesses to find three outlets of each particular type. In the Washington, DC area, we attempted to survey nine popular outlets of each type, three in each of the DC survey areas described in Table 2.

2.5 Geographic Coverage

Table 2 shows the Alaska COLA and DC survey area boundaries. OPM collected non-housing prices in outlets throughout the major cities described in Table 2. To collect rental data, OPM contracted with Delta-21 Resources, Incorporated, a research organization with expertise in housing and rental data collection. Delta-21 surveyed rental rates in locations within the same cities.

To collect non-rental data in the DC area, OPM divides the area into three survey areas, as shown in Table 2. OPM collects non-rental prices in outlets throughout these areas. As stated in the footnote to Table 2, we surveyed certain items, such as golf, in areas beyond the counties and cities specified in Table 2. Another example is air travel. We surveyed the cost of air travel from Ronald Reagan Washington National Airport, Washington Dulles International Airport, and Baltimore/Washington International Airport (BWI) and surveyed the price of a 5-mile taxi ride originating at these airports. Both Dulles and BWI are outside the counties and cities shown in Table 2. Nevertheless, DC area residents commonly use both airports.

Table 2.—Survey and Data Collection Areas
COLA areas and reference areas | Survey area
Anchorage, AK | City of Anchorage.
Fairbanks, AK | Fairbanks/North Pole area.
Juneau, AK | Juneau/Mendenhall/Douglas area.
Washington, DC-DC | District of Columbia.
Washington, DC-MD | Montgomery County and Prince George's County.
Washington, DC-VA | Arlington County, Fairfax County, Prince William County, City of Alexandria, City of Fairfax, City of Falls Church, City of Manassas, and City of Manassas Park.
Note: For selected items, such as snow skiing and air travel, these survey areas include additional geographic locations beyond these jurisdictions.

Delta-21 surveyed rental prices as specified in the COLA areas and throughout the DC area. (Note: OPM does not divide the DC area into three separate survey areas for rental data collection but rather treats the area as a single survey area.) In selecting the locations and sample sizes within each location, OPM used 2000 census data showing the relative number of Federal employees and housing units by zip code. In doing this, we often merged several zip codes to identify a single location. We allocated the rental sample objectively, requiring Delta to attempt to obtain more rental observations in locations with a relatively large number of Federal employees and housing units and fewer observations in locations with a relatively small number of Federal employees and housing units. Although the process provided a rational way to allocate the sample, Delta was limited ultimately by how many units were available for rent within a location. Under the contract, Delta surveyed only units available for rent. It did not survey all renter-occupied housing.

3. Conducting the Survey

3.1 Pricing Period

OPM collected data from late March through early July 2006. We collected non-housing price data concurrently in the Alaska areas in March and April and collected the bulk of the DC area data in May. Delta-21 collected rental data sequentially in the DC area, Juneau, Fairbanks, and Anchorage beginning in March and ending in July 2006.

3.2 Non-Housing Price Data Collection

3.2.1 Data Collection Teams

In both the COLA and Washington, DC, areas, OPM central office staff collected non-housing price data. In the COLA areas, data collection observers designated by the local CAC accompanied the OPM data collectors. Data collection observers were extremely helpful and advised and assisted the data collectors in contacting outlets, matching items, and selecting substitutes. The observers also advised us on other living-cost and compensation issues relating to their areas.

Because of logistical considerations, cost, and the fact OPM central office staff is very knowledgeable about the DC area, we did not use CAC data collection observers in the Washington, DC, area. However, we made all of the DC area data available to the CACs. This included both the rental and non-rental data. The non-rental data showed the individual prices by item, store, and survey location as well as averages. The rental data included a photograph and a rough sketch of the layout of the rental unit. We also provided the CACs with maps showing where each rental unit is located.

3.2.2 Data Collection Process

The data collector/observer teams obtained most of the data by visiting stores, auto dealers, and other outlets. The teams also priced some items, such as car insurance, tax preparation fees, bank interest, and private education tuition, by telephone. As noted in Section 2.4, we surveyed some items via catalog, including all shipping costs and any applicable taxes in the price. We also collected other data, such as sales tax rates and airline fares, from Web sites on the Internet.

For all items subject to sales and/or excise taxes, OPM added the appropriate amount of tax to the price for computing COLA rates. Sales tax rates varied by city within Alaska and in the DC area. Some sales tax rates also varied by item, such as restaurant meals, within a location.

The data collectors collected the price of the item at the time of the visit to the outlet. Therefore, with certain exceptions, the data collectors collected the sale price if the item was on sale, and we used sale prices in the COLA calculations. The exceptions include coupon prices, going-out-of-business prices, clearance prices, mail-in rebates, and area-wide distress sales, which we do not use. We also do not collect automobile “sale” or negotiated prices. Instead, we obtain the sticker (i.e., non-negotiated) price for the model and specified options. The prices are the manufacturer's suggested retail price (including options), destination charges, additional shipping charges, appropriate dealer-added items or options, dealer mark-up, and taxes, including sales tax and licensing and title fees.

3.3 Housing (Rental) Price Data Collection

As noted in Section 2.5, OPM contracted for the collection of rental data with Delta-21, which collected data in the three Alaska cities and in the DC area. These data included rental prices, comprehensive information about the size and type of dwelling, number and types of rooms, and other important amenities that might influence the rental price. Appendix 4 lists the data elements Delta-21 collected.

The contractor identified units for rent from various sources, including rental property managers, realtor brokers, listing services, newspaper ads, grocery store bulletin boards, and casual drive-by observation. The contractor then visited each rental unit, took a photograph of the unit, made a sketch of the floor plan based on exterior dimensions and shape, and noted the unit's longitude and latitude coordinates. We used longitude and latitude to (1) determine the distance of the rental unit from major commercial and Government centers, (2) to correlate census tract data (e.g., median income) for the tract in which the unit was located, and (3) to map each unit's location. As discussed in Section 4.2.5, we used certain census tract data elements along with the data Delta-21 collected to determine the relative price of rents.

During the 2006 survey, OPM arranged for CAC observers to accompany Delta-21 rental data collectors as they collected data in the survey areas. This is the first year CAC observers did this, so it was a learning experience for the CAC members, Delta-21, and OPM. Overall, the observation process went well and enhanced the CAC observers' understanding of the rental survey process. OPM is considering allowing CAC members to be rental data collection observers in future COLA rental surveys.

4. Analyzing the Results

4.1 Data Review

During and after the data collection process, the data collectors reviewed the data for errors and omissions. This involved reviewing the data item-by-item and comparing prices across outlets within an area to spot data entry errors, mismatches, and other mistakes.

After all of the data had been collected in both the COLA areas and the Washington, DC, area, we again reviewed the data by item across all of the areas. One purpose was to spot errors not previously detected, but the principal reason was to look at substitute items.

A substitute is an item similar to but not exactly the same as the specified survey item. For example, one of the items OPM specified was a man's Geoffrey Beene long sleeve dress shirt. The data collectors in the Alaska areas, however, discovered some stores did not carry the Geoffrey Beene brand. Therefore, the data collectors priced a long sleeve dress shirt by Arrow instead. We then priced the same shirt in the DC area and used the substitute price information in place of the prices of the originally specified item.

4.2 Special Price Computations

After completing our data review, we made special price computations for five survey items: K-12 private education, Federal Employees Health Benefits premiums, water utilities, energy utility prices, automobile tire prices, renters' insurance, and rental prices. For each of these, we used special processes to calculate appropriate estimates for each survey area.

4.2.1 K-12 Private Education

One of the items OPM surveys is the average annual tuition for private education, grades K-12. As in previous surveys, we found tuition rates varied by grade level. Therefore, we computed an overall average tuition “price” for each school surveyed by averaging the tuition rates grade-by-grade. Section 4.4.2 below describes the additional special “use factor” OPM applied to the average tuition rates in the price comparison process.

4.2.2 Health Insurance

As noted in Section 2.3.1, OPM surveyed the non-Postal employees' premium for the various Federal Employees Health Benefits (FEHB) plans offered in each survey area. Using enrollment information from the CPDF, we computed two weighted average premium costs—one for self-only coverage and another for family coverage—for white-collar Federal employees in each of the COLA areas and in the Washington, DC, area. As shown in Table 3, we then computed an overall weighted average premium for each survey area by applying the number of white-collar Federal employees nationwide enrolled in self-only and family plans. We used the overall weighted average premiums as “prices” in the price averaging process described in Section 4.3.

Table 3.—2006 Average FEHB Premiums for Full-Time Permanent Employees
(Non-Postal Employees' Share)
Location | Self premium | Family premium | Bi-Weekly weighted average premium
Anchorage | 58.58 | 135.82 | 104.68
Fairbanks | 55.89 | 132.19 | 101.43
Juneau | 56.89 | 131.31 | 101.31
DC Area | 52.57 | 121.47 | 93.70
Nationwide Enrollment | 620,038 | 918,099
Enrollment Percentage | 40.31% | 59.69%

4.2.3 Water Utilities

OPM surveys water utility rates in each of the COLA and Washington, DC, survey areas. To compute the “price” of water utilities, we assumed the average monthly water consumption in each area was 7,600 gallons. We derived this estimate from earlier COLA research, and it reflects the average consumption across all of the COLA areas and the Washington, DC, area. We used this quantity along with the rates charged to compute the average monthly water utility cost by survey area. These average monthly costs were the water utility “prices” we used in the price averaging process described in Section 4.3.

4.2.4 Energy Utilities Model

For energy utilities (i.e., electricity, gas, and oil), OPM collects from local utility companies and suppliers in the COLA and DC survey areas the price of various energy utilities used for lighting, cooking, cooling, and other household needs. We use these prices in a heating and cooling engineering model that estimates how many kilowatt hours of electricity, cubic feet of gas, and/or gallons of fuel oil are needed to maintain a specific model home at a constant ambient temperature of 72 degrees in each area.

The engineering model was developed by an economic consulting company under special research conducted jointly for OPM and the plaintiffs' representatives after the Caraballo settlement. The model uses local home construction information and climatic data from the National Oceanic and Atmospheric Administration and also includes the amount of electricity needed to run standard household appliances and lighting. For each survey area, we calculated the cost of heating and cooling the model home using the different heating fuels and electricity for lighting and appliances. Although some homes use additional energy sources, such as wood, coal, kerosene, and solar energy, we did not price or include these in the calculations because, based on the results of the 2000 census, relatively few homes use these as primary energy sources.

For Fairbanks and Juneau, OPM surveyed the price of electricity and fuel oil to compute home energy costs because the 2000 Census indicated that these two sources were used to heat over 95 percent of the homes in Fairbanks and Juneau. In Anchorage, OPM surveyed gas and electricity prices because Census data indicated that 97 percent of the Anchorage homes use these energy sources for heating. In Washington, OPM surveyed the costs of all three fuels (gas, oil and electricity). OPM used percentages based on the usage of the different fuels in each survey area to compute a weighted average utility fuel cost for the area. Appendix 5 shows the energy requirements, relative usage percentages, and total costs by area. OPM used these total costs as the “price” of utilities in the COLA rate calculations.

4.2.5 Tire Prices

Because of the climate, many Alaskans use snow tires on their automobiles during the winter months. People in the Washington, DC, area generally do not use snow tires. Therefore, in Alaska, we surveyed the price of both snow tires and all season radial tires and averaged the prices to compute the “price” for tires. We compared this with the average price of all season radial tires in the Washington, DC, area to compute a price index for tires.

4.2.6 Renters' Insurance

One of the items OPM surveys is the price of renters' insurance. In the COLA areas, OPM includes catastrophic coverage for earthquakes, hurricanes, and/or typhoons, to the extent it is available, in the price. In the 2006 survey, we surveyed earthquake insurance for renters in Alaska. Some insurance carriers did not offer this coverage, so for these carriers we estimated the price of earthquake coverage. We did this by computing for the companies that offered earthquake coverage the additional cost in percent of such coverage and increasing the price of the policies that did not provide the coverage by that percentage.

4.2.7 Rental Data Hedonic Models

As discussed in Sections 2.5 and 3.3, OPM hired a contractor to collect rental data, including rents and the characteristics of each rental unit. As described in Section 3.3, we collated these rental data with census tract information published by the Bureau of the Census using the longitude and latitude of the rental properties. We used census tracts, which are relatively small geographically, as surrogates for neighborhoods. We believe the census tract characteristics, such as the percentage of school age children, reflect the character and quality of the neighborhoods in which the rental units are found.

OPM uses hedonic regression analysis, which is a type of multiple linear regression analysis, to compare rents in the COLA areas with rents in the DC area. Multiple linear regression is a type of statistical analysis used to determine how the dependent variable (in this case rent) is influenced by the independent variables (in this case the characteristics of the neighborhood and rental unit). In regression analyses, it is very important to choose the independent variables with great care, making certain only those meeting certain statistically significant thresholds are used in the analysis. To select the independent variables, OPM uses a special procedure developed jointly by OPM and the Technical Advisory Committee. (The Technical Advisory Committee was established under the Caraballo settlement and is composed of three economists with expertise in living-cost comparisons.) We call this procedure the Variable Selection Protocol (VSP).

VSP is a multi-step procedure that uses objective criteria to eliminate independent variables with little statistical significance in the regression. It also removes variables with inexplicable signs and variables that negatively affect the precision of the rent indexes. An example of an inexplicable sign is when the landlord provides an amenity (e.g., a microwave), and the variable has a negative sign. In essence, this is the same as saying on average when the landlord did not provide a microwave, the property rented for more than when the landlord did provide a microwave. In 2006, the presence of kitchen range, patio, and trash pickup had negative signs and were dropped.

How VSP drops variables that negatively affect the precision of rent indexes is a bit more complicated to explain. The key variable in the regression is the survey area, i.e., Anchorage, Fairbanks, Juneau, and the Washington, DC, area. As with all variables in the regression, these variables have parameter estimates; but the survey area parameter estimates are especially important because they become the rent indexes for each of the survey areas. Therefore, it is important that the survey area parameter estimates be as accurate as practicable. The accuracy is measured by the standard error of the survey area parameter estimate. In the last steps of VSP, the protocol tests each of the variables in the model and drops variables that if retained would raise the standard errors of the survey area parameter estimates.

Using VSP, we selected variables with the greatest statistical significance. The variables are listed below and are shown in the regression output in Appendix 6.

—Age of unit (i.e., number of years since built or extensively remodeled);

—Age squared;

—Elevator (yes/no) (for apartments only);

—Exceptional view (yes/no);

—Fireplace (yes/no);

—Garage (yes/no) (for detached and town/row houses);

—Microwave (yes/no);

—Number of square feet combined (i.e., “crossed”) with unit type;

—Number of bathrooms;

—Number of bedrooms;

—Percent school age children in census tract;

—Percent with BA degree or higher in census tract;

—Percent with BA degree squared;

—Square footage squared;

—Unit Type (detached house, row/townhouse, high rise apartment, garden apartment, and other (in-home apartments, duplex/triplex/quadplex units and other));

—Survey Year (2005 or 2006 DC area only); and

—Survey area (Anchorage, Fairbanks, Juneau, or the DC area).

The Technical Advisory Committee economists recommended adding Washington, DC, rental observations from the previous year to the current year rental data. We examined the effect of including prior year data and found it significantly reduced the standard error of the survey area parameter estimate. Therefore, we included the survey year variable in the regression calculations.

As is common in this type of analysis and as was done in the research leading to the Caraballo settlement, OPM uses semi-logarithmic regressions. As noted previously in this section, the regression produces parameter estimates for each independent variable, including survey area. When the regression uses the Washington, DC, area as the base, the regression produces parameter estimates for each of the COLA survey areas: Anchorage, Fairbanks, and Juneau. The exponent of the survey area parameter estimate (i.e., after the estimate is converted from natural logarithms) multiplied by 100 (following the convention used to express indexes) is the survey area's rent index. This index reflects the difference in rents in each of the COLA survey areas relative to the Washington, DC, area, while holding constant important neighborhood and rental unit characteristics captured in the survey and census data.

OPM makes a technical adjustment in the above calculations to correct for a slight bias caused by the use of logarithms because the exponent of the average of the logarithms of a series of numbers is always less than the average of the numbers. Therefore, we added one-half of the standard deviation of the survey area parameter estimate before converting from natural logarithms. (See Arthur Goldberger, “Best Linear Unbiased Prediction in the Generalized Linear Regression Model,” Journal of the American Statistical Association, 1962.) Table 4 shows the resulting rent indexes. We used these indexes as “prices” in the price averaging process described in Section 4.3.

Table 4.—Rent Indexes
Area | Rent index
Anchorage | 86.22
Fairbanks | 80.55
Juneau | 94.39
Washington, DC, Area | *100.00
* By definition, the index of the base area is always 100.00.

Appendix 6 shows the regression equation in SAS code and the regression results. (SAS is a proprietary statistical analysis computer software package.)

4.3 Averaging Prices by Item and Area

After OPM collects, reviews, and makes special adjustments in the data, OPM averages the prices of each item by COLA survey area. For example, we priced milk at three different grocery stores in Anchorage and averaged these prices to compute a single average price for milk in Anchorage. If we collected more than one price for a particular matched item within the same outlet (e.g., priced equivalent brands), we used the lowest price by item and outlet to compute the average. (The concept is that if the item and brands are equivalent, consumers will choose the one with the lowest price.) We repeated this item-by-item averaging process for each area.

For Washington, DC, area prices, we first averaged prices within each of the three DC survey areas described in Section 2.5. Then we computed a simple average of the three DC area survey averages to derive a single DC area average price for each survey item.

4.4 Computing Price Indexes

OPM computes a price index for each of the items found in both the COLA survey area and in the Washington, DC, area. To do this we divided the COLA survey area average price by the DC area average price and, following the convention used to express indexes, multiplied the result by 100. For the majority of survey items, we next applied consumer expenditure weights to combine price indexes. For a few items, however, OPM first applied special processes as described in Sections 4.4.1 and 4.4.2 below.

4.4.1 Geometric Means

As described in Section 2.3, OPM selects survey items to represent specified detailed expenditure categories (DECs). Generally, OPM surveys only one item per DEC, but in some cases, it surveys multiple items at a single DEC. In these cases, it computes the geometric mean of the price indexes to derive a single price index for the DEC. (A geometric mean is the nth root of the product of n different numbers and is often used in price index computations.) For example, we surveyed two prescription drugs—Amoxicillin and Nexium in the 2005 Caribbean survey. These two different prescription drugs represent a single DEC called “prescription drugs.” To derive a single price index for the DEC, we computed the geometric mean of the price index for Amoxicillin and the price index for Nexium.

4.4.2 Special Private Education Computations

As noted in Section 4.2.1, OPM surveyed K-12 private education in the COLA and DC areas and computed an average tuition “price” that reflected all grade levels. Because not everyone sends children to private school, OPM made an additional special adjustment for K-12 education by applying “use factors.” These use factors reflect the relative extent to which Federal employees make use of private education in the COLA and DC areas. For example, Table 5 shows a use factor of 0.7816 for Anchorage. OPM computed this by dividing 10.34 percent (the percentage of Federal employees in Anchorage with at least 1 child in a private school) by 13.23 percent (the percentage of DC area Federal employees with at least 1 child in a private school). OPM obtained the percentages from the results of the 1992/93 Federal Employee Housing and Living Patterns Survey, which is the most current comprehensive data available. Table 5 shows the use factors and the adjusted price indexes for each COLA survey area.

Table 5.—Summary of Private Education Use Factors and Indexes
COLA survey area | Employees w/children in private schools: Local area | Employees w/children in private schools: DC area | Use factor | Price index | Price index w/use factor
Anchorage | 10.34 | 13.23 | 0.7816 | 37.97 | 29.67
Fairbanks | 8.56 | 13.23 | 0.6470 | 21.39 | 13.84
Juneau | 12.43 | 13.23 | 0.9395 | 23.95 | 22.50

4.5 Applying Consumer Expenditure Weights

Next, OPM applies consumer expenditure weights to aggregate price indexes by expenditure group. As noted in Section 2.3, OPM uses the results of the BLS 2003/2004 Consumer Expenditure Survey to estimate the amounts middle income level consumers in the DC area spend on various items. Using expenditure weights, OPM combines the price indexes according to their relative importance. For example, shelter is the most important expenditure in terms of the COLA survey and represents about 30 percent of total consumer expenditures. On the other hand, the purchase of newspapers at newsstands represents less than 1/10th of 1 percent of total expenditures.

Beginning at the lowest level of expenditure aggregation (e.g., sub-PEG), we computed the relative importance of each survey item within the level of aggregation, multiplied the price index times its expenditure percentage, and summed the cross products for all of the items within the level of aggregation to compute a weighted price index for the level. We repeated this process at each higher level of aggregation (e.g., PEG and MEG). Appendix 7 shows these calculations for each COLA survey area at the PEG and MEG level. The process resulted in an overall price index for Anchorage, Fairbanks, and Juneau but not for the Rest of the State of Alaska.

4.6 Computing the Overall Price Index for Rest of the State of Alaska

Pursuant to the Caraballo settlement agreement, OPM did not conduct a living-cost survey in the Rest of the State of Alaska COLA area. Instead, OPM obtained information published by the University of Alaska and the Alaska Department of Labor and Workforce Development that compared prices in Anchorage with various other locations in Alaska. OPM used these data to compare prices in Kodiak, Alaska, with prices in Anchorage to compute, to the extent practical, Kodiak price indexes at the PEG and MEG level using Anchorage as the base. OPM then multiplied the MEG price indexes by the Anchorage indexes shown in Appendix 7 to estimate price differences in Kodiak compared with the DC area. OPM used the expenditure weights and the process described above to aggregate these indexes and produce an overall price index for the Rest of the State of Alaska, as shown in Appendix 8.

5. Final Results

To compute the overall living-cost index, OPM adds to the price index a non-price adjustment factor. The parties in Caraballo negotiated these factors to reflect differences in living costs not captured by the surveys, and OPM adopted these factors in regulation as part of the new methodology. The factor for Anchorage is seven index points, and the factor for Fairbanks, Juneau, and the Rest of the State of Alaska is nine index points. The resulting living-cost indexes are shown in Table 6.

Table 6.—Final Living-Cost Comparison Indexes
Allowance area | Index
Anchorage | 109.81
Fairbanks | 118.90
Juneau | 120.08
Rest of the State of Alaska | 132.82

6. Post Survey Meetings

In September 2006, the Anchorage, Fairbanks, and Juneau CACs held 1-day meetings to review the survey results. We provided the committee members with various reports showing the data we collected, examples of how we reviewed these data, the data we used in our analyses, and the results at the PEG and MEG level, as shown in Appendix 7. We explained how we analyzed the rental data and used expenditure weights to combine price indexes to reflect overall living costs.

Appendix 1.—Publication in the Federal Register of Prior Survey Results: 1990-2004
Citation | Contents
71 FR 63179 | Report on 2005 living-cost surveys conducted in Puerto Rico and the U.S. Virgin Islands.
70 FR 44989 | Report on 2004 living-cost surveys conducted in Hawaii and Guam.
69 FR 12002 | Report on 2003 living-cost surveys conducted in Alaska.
69 FR 6020 | Report on 2002 living-cost surveys conducted in Puerto Rico and the U.S. Virgin Islands.
65 FR 44103 | Report on 1998 living-cost surveys conducted in Alaska, Hawaii, Guam, Puerto Rico, and the U.S. Virgin Islands.
63 FR 56432 | Report on 1997 living-cost surveys conducted in Alaska, Hawaii, Guam, Puerto Rico, and the U.S. Virgin Islands.
62 FR 14190 | Report on 1996 living-cost surveys conducted in Alaska, Hawaii, Guam, Puerto Rico, and the U.S. Virgin Islands.
61 FR 4070 | Report on winter 1995 living-cost surveys conducted in Alaska.
60 FR 61332 | Report on summer 1994 living-cost surveys conducted in Hawaii, Guam, Puerto Rico, and the U.S. Virgin Islands.
59 FR 45066 | Report on winter 1994 living-cost surveys conducted in Alaska.
58 FR 45558 | Report on summer 1992 and winter 1993 living-cost surveys conducted in Alaska, Hawaii, Guam, Puerto Rico, and the U.S. Virgin Islands.
58 FR 27316 | Report on summer 1993 living-cost surveys conducted in Hawaii, Guam, Puerto Rico, and the U.S. Virgin Islands.
57 FR 58556 | Report on summer 1991 and winter 1992 living-cost surveys conducted in Alaska, Hawaii, Guam, Puerto Rico, and the U.S. Virgin Islands.
56 FR 7902 | Report on summer 1990 living-cost surveys conducted in Alaska, Hawaii, Guam, Puerto Rico, and the U.S. Virgin Islands.

Appendix 2.—Estimated DC Area Middle Income Annual Consumer Expenditures
[Asterisks show Detailed Expenditure Categories (DECs) for which OPM surveyed items.]
Level | Code | Group | Category name | Expenditures
1 | TOTALEXP |  | Total Expenditure | $55,614.27
2 | FOODTOTL | MEG | Food | 6,922.88
3 | CERBAKRY | PEG | Cereals and bakery products | 454.23
4 | CEREAL |  | Cereals and cereal products | 150.11
5 | 010110 |  | Flour | 8.77
5 | 010120 |  | Prepared flour mixes | 13.22
5 | 010210 |  | Ready-to-eat and cooked cereals * | 85.68
5 | 010310 |  | Rice * | 17.63
5 | 010320 |  | Pasta, cornmeal and other cereal products * | 24.81
4 | BAKERY |  | Bakery products | 304.11
5 | BREAD |  | Bread | 88.56
6 | 020110 |  | White bread * | 35.96
6 | 020210 |  | Bread, other than white * | 52.60
5 | CRAKCOOK |  | Crackers and cookies | 68.85
6 | 020510 |  | Cookies * | 45.26
6 | 020610 |  | Crackers | 23.58
5 | 020810 |  | Frozen and refrigerated bakery products * | 25.43
5 | OTHBAKRY |  | Other bakery products | 121.28
6 | 020310 |  | Biscuits and rolls * | 40.04
6 | 020410 |  | Cakes and cupcakes * | 40.09
6 | 020620 |  | Bread and cracker products | 3.20
6 | 020710 |  | Sweetrolls, coffee cakes, doughnuts | 23.95
6 | 020820 |  | Pies, tarts, turnovers | 14.00
3 | ANIMAL | PEG | Meats, poultry, fish, and eggs | 914.88
4 | BEEF |  | Beef | 258.77
5 | 030110 |  | Ground beef * | 99.60
5 | ROAST |  | Roast | 41.70
6 | 030210 |  | Chuck roast * | 10.63
6 | 030310 |  | Round roast * | 9.00
6 | 030410 |  | Other roast | 22.07
5 | STEAK |  | Steak | 99.04
6 | 030510 |  | Round steak * | 17.29
6 | 030610 |  | Sirloin steak * | 30.40
6 | 030710 |  | Other steak | 51.36
5 | 030810 |  | Other beef | 18.43
4 | PORK |  | Pork | 133.75
5 | 040110 |  | Bacon * | 24.19
5 | 040210 |  | Pork chops * | 29.82
5 | HAM |  | Ham | 29.05
6 | 040310 |  | Ham, not canned * | 28.45
6 | 040610 |  | Canned ham * | 0.60
5 | 040510 |  | Sausage | 21.16
5 | 040410 |  | Other pork | 29.54
4 | OTHRMEAT |  | Other meats | 104.10
5 | 050110 |  | Frankfurters * | 21.48
5 | LNCHMEAT |  | Lunch meats (cold cuts) | 71.11
6 | 050210 |  | Bologna, liverwurst, salami * | 21.27
6 | 050310 |  | Other lunchmeats | 49.83
5 | LAMBOTHR |  | Lamb, organ meats and others | 11.52
6 | 050410 |  | Lamb and organ meats | 8.99
6 | 050900 |  | Mutton, goat and game | 2.52
4 | POULTRY |  | Poultry | 162.22
5 | CHICKEN |  | Fresh and frozen chickens | 129.26
6 | 060110 |  | Fresh and frozen whole chicken * | 39.10
6 | 060210 |  | Fresh and frozen chicken parts * | 90.16
5 | 060310 |  | Other poultry | 32.96
4 | FISHSEA |  | Fish and seafood | 217.94
5 | 070110 |  | Canned fish and seafood * | 26.72
5 | 070230 |  | Fresh fish and shellfish * | 121.55
5 | 070240 |  | Frozen fish and shellfish * | 69.66
4 | 080110 |  | Eggs * | 38.09
3 | DAIRY | PEG | Dairy products | 324.73
4 | MILKCRM |  | Fresh milk and cream | 121.80
5 | 090110 |  | Fresh milk, all types * | 109.79
5 | 090210 |  | Cream | 12.00
4 | OTHDAIRY |  | Other dairy products | 202.94
5 | 100110 |  | Butter | 20.89
5 | 100210 |  | Cheese * | 98.59
5 | 100410 |  | Ice cream and related products * | 55.36
5 | 100510 |  | Miscellaneous dairy products | 28.10
3 | FRUITVEG | PEG | Fruits and vegetables | 446.86
4 | FRSHFRUT |  | Fresh fruits | 228.66
5 | 110110 |  | Apples * | 40.49
5 | 110210 |  | Bananas * | 39.81
5 | 110310 |  | Oranges * | 25.91
5 | 110510 |  | Citrus fruits, excluding oranges | 17.56
5 | 110410 |  | Other fresh fruits | 104.89
4 | FRESHVEG |  | Fresh vegetables | 218.20
5 | 120110 |  | Potatoes * | 34.55
5 | 120210 |  | Lettuce * | 26.50
5 | 120310 |  | Tomatoes * | 43.10
5 | 120410 |  | Other fresh vegetables | 114.04
3 | PROCFOOD | PEG | Processed Foods | 761.67
4 | PROCFRUT |  | Processed fruits | 113.77
5 | FRZNFRUT |  | Frozen fruits and fruit juices | 10.96
6 | 130110 |  | Frozen orange juice * | 5.02
6 | 130121 |  | Frozen fruits | 3.41
6 | 130122 |  | Frozen fruit juices | 2.53
5 | 130310 |  | Canned fruits * | 15.98
5 | 130320 |  | Dried fruit | 6.84
5 | 130211 |  | Fresh fruit juice | 23.18
5 | 130212 |  | Canned and bottled fruit juice * | 56.80
4 | PROCVEG |  | Processed vegetables | 89.11
5 | 140110 |  | Frozen vegetables * | 31.24
5 | CANDVEG |  | Canned and dried vegetables and juices | 57.87
6 | 140210 |  | Canned beans * | 12.18
6 | 140220 |  | Canned corn | 7.00
6 | 140230 |  | Canned miscellaneous vegetables | 18.09
6 | 140320 |  | Dried peas | 0.61
6 | 140330 |  | Dried beans | 3.04
6 | 140340 |  | Dried miscellaneous vegetables | 7.06
6 | 140310 |  | Dried processed vegetables | 0.28
6 | 140410 |  | Frozen vegetable juices | 0.26
6 | 140420 |  | Fresh and canned vegetable juices | 9.34
4 | MISCFOOD |  | Miscellaneous foods | 558.80
5 | FRZNPREP |  | Frozen prepared foods | 112.27
6 | 180210 |  | Frozen meals * | 30.29
6 | 180220 |  | Other frozen prepared foods | 81.98
5 | 180110 |  | Canned and packaged soups * | 36.07
5 | SNACKS |  | Potato chips, nuts, and other snacks | 112.03
6 | 180310 |  | Potato chips and other snacks * | 85.73
6 | 180320 |  | Nuts | 26.30
5 | CONDMNTS |  | Condiments and seasonings | 94.21
6 | 180410 |  | Salt, spices, other seasonings * | 22.44
6 | 180420 |  | Olives, pickles, relishes | 10.53
6 | 180510 |  | Sauces and gravies * | 41.33
6 | 180520 |  | Baking needs and miscellaneous products | 19.91
5 | OTHRPREP |  | Other canned and packaged prepared foods | 161.53
6 | 180611 |  | Prepared salads | 23.52
6 | 180612 |  | Prepared desserts * | 10.82
6 | 180620 |  | Baby food * | 29.01
6 | 180710 |  | Miscellaneous prepared foods | 97.40
6 | 180720 |  | Vitamin supplements | 0.77
5 | 190904 |  | Food prepared by consumer unit on out-of-town trips | 42.69
3 | OTHRFOOD | PEG | Other food at home | 196.83
4 | SWEETS |  | Sugar and other sweets | 126.14
5 | 150110 |  | Candy and chewing gum * | 80.21
5 | 150211 |  | Sugar * | 17.26
5 | 150212 |  | Artificial sweeteners * | 5.16
5 | 150310 |  | Jams, preserves, other sweets * | 23.51
4 | FATSOILS |  | Fats and oils | 70.69
5 | 160110 |  | Margarine * | 7.54
5 | 160211 |  | Fats and oils * | 23.29
5 | 160212 |  | Salad dressings * | 21.26
5 | 160310 |  | Nondairy cream and imitation milk * | 9.31
5 | 160320 |  | Peanut butter | 9.29
3 | NALCBEVG | PEG | Nonalcoholic beverages | 268.77
4 | 170110 |  | Cola * | 91.79
4 | 170210 |  | Other carbonated drinks | 44.33
4 | COFFEE |  | Coffee | 34.21
5 | 170310 |  | Roasted coffee * | 22.00
5 | 170410 |  | Instant and freeze dried coffee | 12.21
4 | 170510 |  | Noncarbonated fruit flavored drinks * | 19.52
4 | 170520 |  | Tea | 16.11
4 | 200112 |  | Nonalcoholic beer | 0.69
4 | 170530 |  | Other nonalcoholic beverages and ice | 62.10
3 | FOODAWAY | PEG | Food away from home | 2,937.46
4 | RESTCOAO |  | Meals at Restaurants, carry outs, and other | 2,517.57
5 | LUNCH |  | Lunch | 919.32
6 | 190111 |  | Lunch at fast food, take-out, delivery, etc. * | 529.59
6 | 190112 |  | Lunch at full service restaurants * | 282.31
6 | 190113 |  | Lunch at vending machines/mobile vendors | 10.28
6 | 190114 |  | Lunch at employer and school cafeterias | 97.14
5 | DINNER |  | Dinner | 934.77
6 | 190211 |  | Dinner at fast food, take-out, delivery, etc. * | 328.53
6 | 190212 |  | Dinner at full service restaurants * | 599.75
6 | 190213 |  | Dinner at vending machines/mobile vendors | 3.46
6 | 190214 |  | Dinner at employer and school cafeterias | 3.02
5 | SNKNABEV |  | Snacks and nonalcoholic beverages | 379.95
6 | 190311 |  | Snacks/nonalcoholic bev. at fast food, take-out, etc. * | 272.51
6 | 190312 |  | Snacks/nonalcoholic bev. at full service restaurants | 37.31
6 | 190313 |  | Snacks/nonalcoholic bev. at vending machines | 57.33
6 | 190314 |  | Snacks/nonalcoholic bev. at cafeterias | 12.80
5 | BRKFBRUN |  | Breakfast and brunch | 283.53
6 | 190321 |  | Breakfast/brunch at fast food, take-out, delivery, etc. * | 150.66
6 | 190322 |  | Breakfast/brunch at full service restaurants * | 123.36
6 | 190323 |  | Breakfast/brunch at vending machines, etc | 2.14
6 | 190324 |  | Breakfast/brunch at cafeterias | 7.37
4 | NONRESME |  | Non Restaurant Meals | 419.89
5 | 190901 |  | Board (including at school) | 13.85
5 | 190902 |  | Catered affairs | 42.74
5 | 190903 |  | Food on out-of-town trips | 242.96
5 | 790430 |  | School lunches | 83.89
5 | 800700 |  | Meals as pay | 36.45
3 | ALCBEVG | PEG | Alcoholic beverages | 617.45
4 | ALCHOME |  | At home | 379.36
5 | 200111 |  | Beer and ale * | 209.02
5 | 200210 |  | Whiskey | 26.19
5 | 200310 |  | Wine * | 107.75
5 | 200410 |  | Other alcoholic beverages | 36.40
4 | ALCAWAY |  | Away from home | 238.09
5 | BEERNALE |  | Beer and ale | 104.82
6 | 200511 |  | Beer and ale at fast food, take-out, etc | 24.30
6 | 200512 |  | Beer and ale at full service restaurants * | 79.17
6 | 200513 |  | Beer and ale at vending machines, etc | 1.23
6 | 200516 |  | Beer and ale at catered affairs | 0.12
5 | WINE |  | Wine | 31.50
6 | 200521 |  | Wine at fast food, take-out, delivery, etc | 4.43
6 | 200522 |  | Wine at full service restaurants * | 27.06
6 | 200523 |  | Wine at vending machines, etc | 0.00
6 | 200526 |  | Wine at catered affairs | 0.01
5 | OTHALCBV |  | Other alcoholic beverages | 101.77
6 | 200531 |  | Other alcoholic bev. at fast food, etc | 5.07
6 | 200532 |  | Other alcoholic bev. at full service restaurants | 53.04
6 | 200533 |  | Other alcoholic bev. at vending machines, etc | 0.13
6 | 200536 |  | Other alcoholic beverages at catered affairs | 0.05
6 | 200900 |  | Alcoholic beverages purchased on trips | 43.47
2 | SHEL&UTL | MEG | Shelter and Utilities | 20,525.18
3 | SHELTER | PEG | Shelter | 18,305.70
4 | RNTLEQ |  | Rented Equivalence (estimated monthly × 12) | 13,998.86
4 | RENTXX |  | Rented Dwelling (rent minus tenants ins.) | 3,916.16
4 | 350110 |  | Tenants Insurance (tenants ins × 2) * | 26.25
4 | OTHLODGE |  | Other Lodging (other minus housing at school) | 364.42
3 | ENERUT | PEG | Energy Utilities * | 1,860.82
3 | WATERX | PEG | Water and other public services * | 358.66
2 | HHF&SUPP | MEG | Household Furnishings and Supplies | 2,645.64
3 | HHOPER | PEG | Household operations | 671.14
4 | HHPERSRV |  | Personal services | 416.02
5 | 340210 |  | Babysitting and child care * | 101.45
6 | 340211 |  | Child care in own home | 38.51
6 | 340212 |  | Child care outside own home | 62.94
5 | 340906 |  | Care for elderly, invalids, handicapped, etc | 30.66
5 | 340910 |  | Adult day care centers | 6.49
5 | 670310 |  | Day-care centers, nursery, and preschools * | 277.41
4 | HHOTHXPN |  | Other household expenses | 255.12
5 | 340310 |  | Housekeeping services * | 50.35
5 | 340410 |  | Gardening, lawn care service * | 82.13
5 | 340420 |  | Water softening service | 3.61
5 | 340520 |  | Household laundry and dry cleaning, sent out | 1.12
5 | 340530 |  | Coin-operated household laundry/dry cleaning | 4.75
5 | 340914 |  | Services for termite/pest control | 11.01
5 | 340915 |  | Home security system service fee | 15.69
5 | 340903 |  | Other home services | 20.03
5 | 330511 |  | Termite/pest control products | 1.22
5 | 340510 |  | Moving, storage, freight express * | 35.83
5 | 340620 |  | Appliance repair, including service center | 13.90
5 | 340630 |  | Reupholstering, furniture repair | 5.20
5 | 340901 |  | Repairs/rentals of lawn/equipment, etc | 7.00
5 | 340907 |  | Appliance rental | 1.70
5 | 340908 |  | Rental of office equipment for nonbusiness use | 0.58
5 | 340913 |  | Repair of miscellaneous household equip. | 0.99
5 | 990900 |  | Rental, install of dishwashers, range hoods, disposals | 0.00
3 | HKPGSUPP | PEG | Housekeeping supplies | 598.59
4 | LAUNDRY |  | Laundry and cleaning supplies | 144.84
5 | 330110 |  | Soaps and detergents * | 84.01
5 | 330210 |  | Other laundry cleaning products | 60.82
4 | HKPGOTHR |  | Other household products | 275.05
5 | 330310 |  | Cleansing & toilet tissue, paper towels/napkins * | 87.48
5 | 330510 |  | Miscellaneous household products | 120.86
5 | 330610 |  | Lawn and garden supplies * | 66.70
4 | POSTAGE |  | Postage and stationery | 178.71
5 | 330410 |  | Stationery, stationery supplies, giftwraps * | 81.65
5 | 340110 |  | Postage | 92.74
6 | STAMP |  | Stamp * | 87.73
6 | PARPST |  | Parcel Post * | 5.00
5 | 340120 |  | Delivery services | 4.33
3 | TEX&RUGS | PEG | Textiles and Area Rugs | 156.23
4 | HHTXTILE |  | Household textiles | 120.39
5 | 280110 |  | Bathroom linens * | 19.20
5 | 280120 |  | Bedroom linens * | 64.63
5 | 280130 |  | Kitchen and dining room linens | 4.19
5 | 280210 |  | Curtains and draperies | 12.16
5 | 280220 |  | Slipcovers, decorative pillows | 7.35
5 | 280230 |  | Sewing materials for slipcovers, curtains, etc | 12.04
5 | 280900 |  | Other linens | 0.82
4 | FLOORCOV |  | Floor coverings | 35.83
5 | RNTCARPT |  | Wall-to-wall carpeting (renter) | 5.12
6 | 230134 |  | Wall-to-wall carpet (renter) | 1.06
6 | 320163 |  | Wall-to-wall carpet (replacement) (renter) | 4.06
5 | 320111 |  | Floor coverings, nonpermanent * | 30.71
3 | FURNITUR | PEG | Furniture | 422.94
4 | 290110 |  | Mattress and springs * | 54.25
4 | 290120 |  | Other bedroom furniture | 88.24
4 | 290210 |  | Sofas | 103.68
4 | 290310 |  | Living room chairs * | 44.56
4 | 290320 |  | Living room tables | 14.12
4 | 290410 |  | Kitchen, dining room furniture * | 41.29
4 | 290420 |  | Infants' furniture | 7.86
4 | 290430 |  | Outdoor furniture | 13.02
4 | 290440 |  | Wall units, cabinets and other occasional furniture | 55.91
3 | MAJAPPL | PEG | Major appliances | 169.11
4 | 230116 |  | Dishwashers (built-in), disposals, range hoods | 10.71
5 | 230117 |  | Dishwasher (owned home) | 0.66
5 | 230118 |  | Dishwasher (rented home) | 10.05
4 | 300110 |  | Refrigerators, freezers * | 41.53
5 | 300111 |  | Refrigerators, freezers (renter) | 6.37
5 | 300112 |  | Refrigerators, freezers (owned home) | 35.16
4 | 300210 |  | Washing machines * | 26.60
5 | 300211 |  | Washing machines (renter) | 4.47
5 | 300212 |  | Washing machines (owned home) | 22.12
4 | 300220 |  | Clothes dryers | 18.74
5 | 300221 |  | Clothes dryers (renter) | 3.04
5 | 300222 |  | Clothes dryer (owned home) | 15.70
4 | 300310 |  | Cooking stoves, ovens * | 22.00
5 | 300311 |  | Cooking stoves, ovens (renter) | 3.25
5 | 300312 |  | Cooking stoves, ovens (owned home) | 18.75
4 | 300320 |  | Microwave ovens | 6.48
5 | 300321 |  | Microwave ovens (renter) | 1.41
5 | 300322 |  | Microwave ovens (owned home) | 5.08
4 | 300330 |  | Portable dishwasher | 1.09
5 | 300331 |  | Portable dishwasher (renter) | 0.18
5 | 300332 |  | Portable dishwasher (owned home) | 0.91
4 | 300410 |  | Window air conditioners | 41.94
5 | 300411 |  | Window air conditioners (renter) | 0.67
5 | 300412 |  | Window air conditioners (owned home) | 2.24
5 | 320511 |  | Electric floor cleaning equipment * | 31.26
5 | 320512 |  | Sewing machines | 4.12
5 | 300900 |  | Miscellaneous household appliances | 3.64
3 | SMAPPHWR | PEG | Small appliances, miscellaneous housewares | 119.92
4 | HOUSWARE |  | Housewares | 92.09
5 | 320310 |  | Plastic dinnerware | 2.16
5 | 320320 |  | China and other dinnerware * | 14.40
5 | 320330 |  | Flatware | 4.00
5 | 320340 |  | Glassware | 27.51
5 | 320350 |  | Silver serving pieces | 0.32
5 | 320360 |  | Other serving pieces | 1.20
5 | 320370 |  | Nonelectric cookware * | 19.86
5 | 320380 |  | Tableware, nonelectric kitchenware | 22.64
4 | SMLLAPPL |  | Small appliances | 27.83
5 | 320521 |  | Small electric kitchen appliances * | 22.42
5 | 320522 |  | Portable heating and cooling equipment | 5.41
3 | MISCHHEQ | PEG | Miscellaneous household equipment | 507.70
4 | 320120 |  | Window coverings | 12.07
4 | 320130 |  | Infants' equipment | 8.40
4 | 320140 |  | Laundry and cleaning equip | 16.38
4 | 320150 |  | Outdoor equipment * | 30.16
4 | 320210 |  | Clocks | 4.37
4 | 320220 |  | Lamps and lighting fixtures | 10.97
4 | 320231 |  | Other household decorative items | 132.64
4 | 320232 |  | Telephones and accessories * | 21.19
4 | 320410 |  | Lawn and garden equipment * | 44.44
4 | 320420 |  | Power tools * | 44.84
4 | 320901 |  | Office furniture for home use * | 6.08
4 | 320902 |  | Hand tools * | 6.80
4 | 320903 |  | Indoor plants, fresh flowers * | 37.16
4 | 320904 |  | Closet and storage items | 9.22
4 | 340904 |  | Rental of furniture | 2.82
4 | 430130 |  | Luggage | 5.11
4 | 690210 |  | Telephone answering devices | 0.67
4 | 690220 |  | Calculators | 1.11
4 | 690230 |  | Business equipment for home use | 1.32
4 | 320430 |  | Other hardware | 49.65
4 | 690242 |  | Smoke alarms (owned home) | 1.08
4 | 690241 |  | Smoke alarms (renter) | 0.17
4 | 690243 |  | Smoke alarms (owned vacation) | 0.01
4 | 690245 |  | Other household appliances (owned home) | 12.32
4 | 690244 |  | Other household appliances (renter) | 1.17
4 | 320905 |  | Miscellaneous household equipment and parts | 47.55
2 | APPAREL | MEG | Apparel and services | 1,987.64
3 | MENBOYS | PEG | Men and boys | 399.20
4 | MENS |  | Men, 16 and over | 319.11
5 | 360110 |  | Men's suits * | 20.44
5 | 360120 |  | Men's sportcoats, tailored jackets | 6.94
5 | 360210 |  | Men's coats and jackets * | 23.04
5 | 360311 |  | Men's underwear * | 19.68
5 | 360312 |  | Men's hosiery | 20.11
5 | 360320 |  | Men's nightwear | 2.30
5 | 360330 |  | Men's accessories | 22.09
5 | 360340 |  | Men's sweaters and vests | 9.25
5 | 360350 |  | Men's active sportswear | 18.86
5 | 360410 |  | Men's shirts * | 80.48
5 | 360511 |  | Men's pants * | 69.00
5 | 360512 |  | Men's shorts, shorts sets | 17.68
5 | 360901 |  | Men's uniforms | 5.25
5 | 360902 |  | Men's costumes | 3.99
4 | BOYS |  | Boys, 2 to 15 | 80.09
5 | 370110 |  | Boys' coats and jackets | 6.07
5 | 370120 |  | Boys' sweaters | 2.28
5 | 370130 |  | Boys' shirts * | 16.50
5 | 370211 |  | Boys' underwear | 4.96
5 | 370212 |  | Boys' nightwear | 2.11
5 | 370213 |  | Boys' hosiery | 3.89
5 | 370220 |  | Boys' accessories | 2.02
5 | 370311 |  | Boys' suits, sportcoats, vests | 3.06
5 | 370312 |  | Boys' pants * | 22.83
5 | 370313 |  | Boys' shorts, shorts sets | 7.16
5 | 370903 |  | Boys' uniforms | 3.34
5 | 370904 |  | Boys' active sportswear | 3.68
5 | 370902 |  | Boys' costumes | 2.19
3 | WMNSGRLS | PEG | Women and girls | 789.24
4 | WOMENS |  | Women, 16 and over | 685.81
5 | 380110 |  | Women's coats and jackets * | 56.19
5 | 380210 |  | Women's dresses * | 79.38
5 | 380311 |  | Women's sportcoats, tailored jackets | 10.03
5 | 380312 |  | Women's vests and sweaters * | 47.56
5 | 380313 |  | Women's shirts, tops, blouses * | 132.70
5 | 380320 |  | Women's skirts | 18.56
5 | 380331 |  | Women's pants * | 101.23
5 | 380332 |  | Women's shorts, shorts sets | 12.49
5 | 380340 |  | Women's active sportswear | 31.84
5 | 380410 |  | Women's sleepwear | 34.36
5 | 380420 |  | Women's undergarments | 51.52
5 | 380430 |  | Women's hosiery | 23.65
5 | 380510 |  | Women's suits | 20.48
5 | 380901 |  | Women's accessories * | 52.89
5 | 380902 |  | Women's uniforms | 8.24
5 | 380903 |  | Women's costumes | 4.68
4 | GIRLS |  | Girls, 2 to 15 | 103.43
5 | 390110 |  | Girls' coats and jackets | 7.60
5 | 390120 |  | Girls' dresses and suits * | 4.32
5 | 390210 |  | Girls' shirts, blouses, sweaters * | 23.77
5 | 390221 |  | Girls' skirts and pants * | 25.91
5 | 390222 |  | Girls' shorts, shorts sets | 9.01
5 | 390230 |  | Girls' active sportswear | 8.55
5 | 390310 |  | Girls' underwear and sleepwear | 7.11
5 | 390321 |  | Girls' hosiery | 4.27
5 | 390322 |  | Girls' accessories | 5.29
5 | 390901 |  | Girls' uniforms | 4.16
5 | 390902 |  | Girls' costumes | 3.43
3 | INFANT | PEG | Children under 2 | 62.17
4 | 410110 |  | Infant coat, jacket, snowsuit | 1.62
4 | 410120 |  | Infant dresses, outerwear | 17.82
4 | 410130 |  | Infant underwear * | 32.99
4 | 410140 |  | Infant nightwear, loungewear * | 3.04
4 | 410901 |  | Infant accessories | 6.70
3 | FOOTWEAR | PEG | Footwear | 406.51
4 | 400110 |  | Men's footwear * | 141.48
4 | 400210 |  | Boys' footwear | 33.73
4 | 400310 |  | Women's footwear * | 194.62
4 | 400220 |  | Girls' footwear | 36.68
3 | OTHAPPRL | PEG | Other apparel products and services | 330.52
4 | 420110 |  | Material for making clothes | 25.38
4 | 420120 |  | Sewing patterns and notions | 14.39
4 | 430110 |  | Watches * | 22.77
4 | 430120 |  | Jewelry * | 126.83
4 | 440110 |  | Shoe repair and other shoe service | 1.29
4 | 440120 |  | Coin-operated apparel laundry/dry cleaning * | 59.82
4 | 440130 |  | Alteration, repair and tailoring of apparel | 6.22
4 | 440140 |  | Clothing rental | 3.53
4 | 440150 |  | Watch and jewelry repair | 5.24
4 | 440210 |  | Apparel laundry/dry cleaning not coin-operated * | 63.94
4 | 440900 |  | Clothing storage | 1.14
2 | TRANS | MEG | Transportation | 8,448.97
3 | MOTVEHCO | PEG | Motor Vehicle Costs | 4,290.98
4 | VEHPURCH |  | Vehicle purchases (net outlay) | 3,445.26
5 | NEWCARS |  | Cars and trucks, new | 2,339.82
6 | 450110 |  | New cars * | 1,007.79
6 | 450210 |  | New trucks | 1,332.03
5 | USEDCARS |  | Cars and trucks, used | 1,104.10
6 | 460110 |  | Used cars | 476.77
6 | 460901 |  | Used trucks | 627.33
5 | OTHVEHCL |  | Other vehicles | 1.34
6 | 450220 |  | New motorcycles | 0.86
6 | 450900 |  | New aircraft | 0.00
6 | 460902 |  | Used motorcycles | 0.48
6 | 460903 |  | Used aircraft | 0.00
4 | VEHFINCH |  | Vehicle finance charges | 445.49
5 | 510110 |  | Automobile finance charges * | 189.33
5 | 510901 |  | Truck finance charges | 230.30
5 | 510902 |  | Motorcycle and plane finance charges | 3.51
5 | 850300 |  | Other vehicle finance charges | 22.35
4 | LEASVEH |  | Leased vehicles | 198.64
5 | 450310 |  | Car lease payments | 99.10
5 | 450313 |  | Cash downpayment (car lease) | 4.87
5 | 450314 |  | Termination fee (car lease) | 0.67
5 | 450410 |  | Truck lease payments | 88.75
5 | 450413 |  | Cash downpayment (truck lease) | 4.91
5 | 450414 |  | Termination fee (truck lease) | 0.34
4 | VEHXP&LV |  | Other Vehicle Expenses and Licenses | 201.59
5 | 520110 |  | State & Local Registration * | 115.65
6 | 520111 |  | Vehicle reg. state (as of Q20012) incl in 520110 | 106.85
6 | 520112 |  | Vehicle reg. local (as of Q20012) incl in 520110 | 8.80
5 | 520310 |  | Driver's license | 9.34
5 | 520410 |  | Vehicle inspection (added to S&L registration) * | 11.55
5 | PARKING |  | Parking fees | 25.77
6 | 520531 |  | Parking fees in home city, excluding residence | 20.24
6 | 520532 |  | Parking fees, out-of-town trips | 5.53
5 | 520541 |  | Tolls | 13.38
5 | 520542 |  | Tolls on out-of-town trips | 4.76
5 | 520550 |  | Towing charges | 7.18
5 | 620113 |  | Automobile service clubs | 13.96
3 | GASOIL | PEG | Gasoline and motor oil | 1,694.67
4 | 470111 |  | Gasoline * | 1,562.03
4 | 470112 |  | Diesel fuel | 21.77
4 | 470113 |  | Gasoline on out-of-town trips | 99.10
4 | 470114 |  | Gasohol | 0.18
4 | 470211 |  | Motor oil | 10.59
4 | 470212 |  | Motor oil on out-of-town trips | 1.00
3 | CARP&R | PEG | Maintenance and repairs | 738.26
4 | CARPAR |  | Maintenance and Repair Parts | 188.47
5 | 470220 |  | Coolant, additives, brake, transmission fluids | 3.88
5 | 480110 |  | Tires—purchased, replaced, installed * | 119.84
5 | 480213 |  | Parts, equipment, and accessories * | 52.38
5 | 480214 |  | Vehicle audio equipment, excluding labor | 7.24
5 | 480212 |  | Vehicle products | 5.13
4 | CARREP |  | Maintenance and Repair Service * | 549.79
5 | 490000 |  | Misc. auto repair, servicing | 52.89
5 | 490110 |  | Body work and painting | 32.53
5 | 490211 |  | Clutch, transmission repair | 44.55
5 | 490212 |  | Drive shaft and rear-end repair | 5.00
5 | 490221 |  | Brake work, including adjustments | 50.99
5 | 490231 |  | Repair to steering or front-end | 16.37
5 | 490232 |  | Repair to engine cooling system | 22.36
5 | 490311 |  | Motor tune-up | 45.80
5 | 490312 |  | Lube, oil change, and oil filters | 68.27
5 | 490313 |  | Front-end alignment, wheel balance and rotation | 13.00
5 | 490314 |  | Shock absorber replacement | 3.01
5 | 490316 |  | Gas tank repair, replacement | 3.55
5 | 490318 |  | Repair tires and other repair work | 54.22
5 | 490319 |  | Vehicle air conditioning repair | 14.63
5 | 490411 |  | Exhaust system repair | 14.10
5 | 490412 |  | Electrical system repair | 27.39
5 | 490413 |  | Motor repair, replacement | 71.05
5 | 490900 |  | Auto repair service policy | 10.07
3 | 500110 | PEG | Vehicle insurance * | 1,117.49
3 | RENTVEH | PEG | Rented vehicles | 36.87
3 | PUBTRANS | PEG | Public transportation | 570.70
4 | 530110 |  | Airline fares * | 361.09
4 | 530210 |  | Intercity bus fares | 14.90
4 | 530510 |  | Intercity train fares | 29.28
4 | 530901 |  | Ship fares | 48.22
4 | LOCTRANS |  | Local Transportation | 117.20
5 | 530311 |  | Intracity mass transit fares | 59.39
5 | 530312 |  | Local trans. on out-of-town trips | 13.06
5 | 530411 |  | Taxi fares and limousine service on trips | 7.67
5 | 530412 |  | Taxi fares and limousine service * | 36.74
5 | 530902 |  | School bus | 0.34
2 | MEDICAL | MEG | Medical | 2,652.88
3 | HEALTINS | PEG | Health insurance | 1,527.07
4 | COMHLTIN |  | Commercial health insurance | 315.60
5 | 580111 |  | Traditional fee for service health plan (not BCBS) | 87.71
5 | 580113 |  | Preferred provider health plan (not BCBS) | 227.89
4 | BCBS |  | Blue Cross, Blue Shield | 496.81
5 | 580112 |  | Traditional fee for service health plan (BCBS) | 88.87
5 | 580114 |  | Preferred provider health plan (BCBS) | 201.20
5 | 580312 |  | Health maintenance organization (BCBS) | 142.66
5 | 580904 |  | Commercial Medicare supplement (BCBS) | 55.73
5 | 580906 |  | Other health insurance (BCBS) | 8.34
4 | 580311 |  | Health maintenance organization (not BCBS) | 324.71
4 | 580901 |  | Medicare payments | 245.20
4 | COMEDOTH |  | Commercial Medicare supplements, other health insurance | 144.74
5 | 580903 |  | Commercial Medicare supplement (not BCBS) | 93.85
5 | 580905 |  | Other health insurance (not BCBS) | 50.89
3 | MEDSERVS | PEG | Medical services | 641.51
4 | 560110 |  | Physician's services * | 159.58
4 | 560210 |  | Dental services * | 227.78
4 | 560310 |  | Eyecare services | 36.02
4 | 560400 |  | Service by professionals other than physician | 36.77
4 | 560330 |  | Lab tests, x-rays | 31.31
4 | 570110 |  | Hospital room * | 43.52
4 | 570210 |  | Hospital service other than room | 51.25
4 | 570240 |  | Medical care in retirement community | 0.00
4 | 570220 |  | Care in convalescent or nursing home | 34.78
4 | 570902 |  | Repair of medical equipment | 0.00
4 | 570230 |  | Other medical care services | 20.48
3 | DRUGS&ME | PEG | Drugs and Medical Supplies | 484.30
4 | DRUGS |  | Drugs | 354.11
5 | 550210 |  | Nonprescription drugs * | 55.72
5 | 550410 |  | Nonprescription vitamins | 34.02
5 | 540000 |  | Prescription drugs * | 264.37
4 | MEDSUPPL |  | Medical supplies | 130.19
5 | 550110 |  | Eyeglasses and contact lenses * | 45.87
5 | 550340 |  | Hearing aids | 20.50
5 | 550310 |  | Topicals and dressings * | 35.87
5 | 550320 |  | Medical equipment for general use | 8.35
5 | 550330 |  | Supportive and convalescent medical equip | 10.66
5 | 570901 |  | Rental of medical equipment | 2.54
5 | 570903 |  | Rental of supportive, convalescent equipment | 6.41
2 | RECREATN | MEG | Recreation | 2,501.55
3 | FEESADM | PEG | Fees and admissions | 627.98
4 | 610900 |  | Recreation expenses, out-of-town trips | 33.40
4 | 620111 |  | Social, recreation, civic club membership * | 90.70
4 | 620121 |  | Fees for participant sports * | 104.80
4 | 620122 |  | Participant sports, out-of-town trips | 29.99
4 | 620211 |  | Movie, theater, opera, ballet * | 121.14
4 | 620212 |  | Movie, other admissions, out-of-town trips | 64.78
4 | 620221 |  | Admission to sporting events | 43.38
4 | 620222 |  | Admission to sports events, out-of-town trips | 21.59
4 | 620310 |  | Fees for recreational lessons * | 84.79
4 | 620903 |  | Other entertainment services, out-of-town trips | 33.40
3 | TVAUDIO | PEG | Television, radios, sound equipment | 403.40
4 | TELEVSN |  | Televisions | 233.02
5 | 310110 |  | Black and white TV | 0.43
5 | 310120 |  | Color TV—console | 67.46
5 | 310130 |  | Color TV—portable, table model * | 47.72
5 | 310210 |  | VCR's and video disc players * | 30.69
5 | 310220 |  | Video cassettes, tapes, and discs * | 58.10
5 | 310230 |  | Video game hardware and software | 23.89
5 | 340610 |  | Repair of TV, radio, and sound equipment | 3.63
5 | 340902 |  | Rental of televisions | 1.11
4 | AUDIO |  | Radios, sound equipment | 170.39
5 | 310311 |  | Radios | 5.67
5 | 310312 |  | Phonographs | 0.00
5 | 310313 |  | Tape recorders and players | 11.84
5 | 310320 |  | Sound components and component systems * | 13.05
5 | 310331 |  | Miscellaneous sound equipment | 1.56
5 | 310332 |  | Sound equipment accessories | 9.71
5 | 310334 |  | Satellite dishes | 0.95
5 | 310341 |  | Compact disc, tape, record and video mail order clubs | 6.41
5 | 310342 |  | Records, CDs, audio tapes, needles * | 46.97
5 | 340905 |  | Rental of VCR, radio, and sound equipment | 0.26
5 | 610130 |  | Musical instruments and accessories | 21.95
5 | 620904 |  | Rental and repair of musical instruments | 2.01
5 | 620912 |  | Rental of video cassettes, tapes, & discs * | 50.00
3 | PETSPLAY | PEG | Pets, toys, and playground equipment | 438.28
4 | PETS |  | Pets | 313.48
5 | 610310 |  | Pet food * | 124.55
5 | 610320 |  | Pet purchase, supplies, medicine | 76.28
5 | 620410 |  | Pet services | 25.34
5 | 620420 |  | Vet services * | 87.31
4 | 610110 |  | Toys, games, hobbies, and tricycles * | 118.68
4 | 610140 |  | Stamp & Coin Collecting | 3.41
4 | 610120 |  | Playground equipment | 2.71
3 | ENTEROTH | PEG | Other entertainment supplies, equipment, and services | 257.22
4 | UNMTRBOT |  | Unmotored recreational vehicles | 32.94
5 | 600121 |  | Boat without motor and boat trailers | 1.48
5 | 600122 |  | Trailer and other attachable campers | 31.46
4 | PWRSPVEH |  | Motorized recreational vehicles | 113.23
5 | 600141 |  | Purchase of motorized camper | 72.69
5 | 600142 |  | Purchase of other vehicle * | 23.41
5 | 600132 |  | Purchase of boat with motor | 17.14
4 | RNTSPVEH |  | Rental of recreational vehicles | 2.48
5 | 520904 |  | Rental noncamper trailer | 0.11
5 | 520907 |  | Boat and trailer rental out-of-town trips | 0.29
5 | 620909 |  | Rental of campers on out-of-town trips | 0.00
5 | 620919 |  | Rental of other vehicles on out-of-town trips | 1.98
5 | 620906 |  | Rental of boat | 0.00
5 | 620921 |  | Rental of motorized camper | 0.00
5 | 620922 |  | Rental of other RV's | 0.09
4 | 600110 |  | Outboard motors | 0.52
4 | 520901 |  | Docking and landing fees | 2.83
4 | RECEQUIP |  | Sports, recreation and exercise equipment | 56.67
5 | 600210 |  | Athletic gear, game tables, exercise equip * | 23.29
5 | 600310 |  | Bicycles | 5.04
5 | 600410 |  | Camping equipment | 6.77
5 | 600420 |  | Hunting and fishing equipment | 10.74
5 | 600430 |  | Winter sports equipment | 1.39
5 | 600901 |  | Water sports equipment | 1.85
5 | 600902 |  | Other sports equipment | 6.39
5 | 620908 |  | Rental and repair of misc. sports equipment | 1.19
4 | PHOTOEQ |  | Photographic equipment, supplies and services | 43.18
5 | 610210 |  | Film * | 7.28
5 | 610220 |  | Other photographic supplies | 2.84
5 | 620330 |  | Film processing * | 11.32
5 | 620905 |  | Repair and rental of photographic equipment | 0.40
5 | 610230 |  | Photographic equipment | 14.29
5 | 620320 |  | Photographer fees | 7.04
4 | 610901 |  | Fireworks | 2.33
4 | 610902 |  | Souvenirs | 0.82
4 | 610903 |  | Visual goods | 1.22
4 | 620913 |  | Pinball, electronic video games | 1.00
3 | PERSPROD | PEG | Personal care products | 348.21
4 | 640110 |  | Hair care products * | 74.00
4 | 640120 |  | Nonelectric articles for the hair | 6.67
4 | 640130 |  | Wigs and hairpieces | 2.36
4 | 640210 |  | Oral hygiene products, articles | 37.15
4 | 640220 |  | Shaving needs | 19.68
4 | 640310 |  | Cosmetics, perfume, bath preparation * | 161.47
4 | 640410 |  | Deodorants, feminine hygiene, misc pers. Care | 36.47
4 | 640420 |  | Electric personal care appliances | 10.41
3 | PERSSERV | PEG | Personal care services | 274.45
4 | 650310 |  | Personal care service * | 274.45
4 | 650900 |  | Repair of personal care appliances | 0.00
3 | READING | PEG | Reading | 152.01
4 | 590110 |  | Newspapers | 61.38
5 | 590111 |  | Newspaper subscriptions * | 48.08
5 | 590112 |  | Newspaper, non-subscriptions * | 13.31
4 | 590210 |  | Magazines | 28.81
5 | 590211 |  | Magazine subscriptions * | 18.43
5 | 590212 |  | Magazines, non-subscriptions * | 10.38
4 | 590900 |  | Newsletters | 0.15
4 | 590220 |  | Books thru book clubs | 7.59
4 | 590230 |  | Books not thru book clubs * | 53.64
4 | 660310 |  | Encyclopedia and other sets of reference books | 0.44
2 | EDU&COMM | MEG | Education and Communication | 2,553.52
3 | EDUCATN | PEG | Education | 114.00
4 | 670210 |  | Elementary and high school tuition * | 90.56
4 | 660210 |  | School books, supplies for elementary and H.S. | 23.44
3 | COMMICAT | PEG | Communications | 2,290.23
4 | PHONE |  | Telephone services | 1,449.14
5 | 270101 |  | Telephone services in home city, excluding car * | 875.46
5 | 270102 |  | Telephone services for mobile car phones * | 541.25
5 | 270103 |  | Pager service | 1.93
5 | 270104 |  | Phone cards | 30.50
4 | 690114 |  | Computer information services * | 179.28
4 | 270310 |  | Community antenna or cable TV * | 661.82
3 | COMP&SVC | PEG | Computers and Computer Services | 149.28
4 | 690113 |  | Repair of computer systems for nonbusiness use | 4.54
4 | 690111 |  | Computers and computer hardware nonbusiness use * | 125.55
4 | 690112 |  | Computer software and accessories for nonbusiness use | 19.19
2 | MISCMEG | MEG | Miscellaneous | 7,376.02
3 | TOBACCO | PEG | Tobacco products and smoking supplies | 216.86
4 | 630110 |  | Cigarettes * | 199.04
4 | 630210 |  | Other tobacco products | 16.46
4 | 630220 |  | Smoking accessories | 1.36
3 | MISC | PEG | Miscellaneous | 818.24
4 | 620925 |  | Miscellaneous fees | 7.45
4 | 620926 |  | Lotteries and pari-mutuel losses | 84.60
4 | 680110 |  | Legal fees * | 142.74
4 | 680140 |  | Funeral expenses * | 91.92
4 | 680210 |  | Safe deposit box rental | 3.42
4 | 680220 |  | Checking accounts, other bank service charges | 22.65
4 | 680901 |  | Cemetery lots, vaults, maintenance fees | 17.64
4 | 680902 |  | Accounting fees * | 53.91
4 | 680903 |  | Miscellaneous personal services | 38.58
4 | 710110 |  | Credit card interest and annual fees * | 203.04
4 | 900002 |  | Occupational expenses | 52.07
4 | 790600 |  | Expenses for other properties | 91.44
4 | 880210 |  | Interest paid, home equity line of credit (other property) | 1.69
4 | 620115 |  | Shopping club membership fees | 7.09
3 | INSPENSN | PEG | Personal insurance and pensions | 6,340.91
4 | LIFEINSR |  | Life and other personal insurance * | 568.40
5 | 700110 |  | Life, endowment, annuity, other personal insurance | 550.96
5 | 002120 |  | Other nonhealth insurance | 17.44
4 | PENSIONS |  | Pensions and Social Security | 5,772.51
5 | 800910 |  | Deductions for government retirement * | 93.45
5 | 800920 |  | Deductions for railroad retirement | 2.71
5 | 800931 |  | Deductions for private pensions | 472.55
5 | 800932 |  | Non-payroll deposit to retirement plans | 344.12
5 | 800940 |  | Deductions for Social Security | 4,859.67

Appendix 3—COLA Survey Items and Descriptions

Abbreviations used in this appendix: FD = Fine Dining (type of dining), FM = Fred Meyers, HA = Hanna Andersson, HTO = Hudson Trail Outfitters, JCP = J.C. Penney, PH = Pancake House (type of dining).

Adhesive Bandages. One box of 40 adhesive bandages. Assorted sizes, clear or flexible. (Note: in Virginia, add tax to this item.) Survey: Band-Aid Bandages Sheer.

Airfare Los Angeles (LAX). Lowest cost, round-trip ticket to Los Angeles, CA, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Survey: Major carrier.

Airfare Miami (MIA). Lowest cost, round-trip ticket to Miami, FL, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Survey: Major carrier.

Airfare Seattle (SEA). Lowest cost, round-trip ticket to Seattle, WA, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Survey: Major carrier.

Airfare St. Louis (STL). Lowest cost, round-trip ticket to St. Louis, MO, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Survey: Major carrier.

All Season Tires (Chevy—Sears). The cost of 4 tires (P245/75R16) mounted on the vehicle, balanced, new stems, stud fee, and applicable excise and or sales tax and disposal cost of old tires. Do not price road hazard insurance or lifetime valve stems. Survey: General Tire AmeriTrac—Sears #09540044000.

All Season Tires (Subaru—Sears). The cost of 4 tires (P205/60R15) mounted on the vehicle, balanced, new stems, stud fee, and applicable excise and or sales tax and disposal cost of old tires. Do not price road hazard insurance or lifetime valve stems. Survey: Bridgestone HP50, Sears #09563649000.

Alternator (Chevrolet). Price of a remanufactured 105-amp alternator for a 2001 Chevrolet Silverado 1500, Regular Cab, 4x4, 2 door, 8 ft. fleetside bed, 4.8 Liter, V8, 4-speed automatic transmission, to the consumer at a dealership. Report price net of core charge (i.e., price after core is returned). Report core charge in comments. If only new alternator available, report new price as match. If price varies whether dealer installs, assume dealer installs but do not price labor. Survey: Dealer recommended brand.

Alternator (Ford). Price of a remanufactured 130-amp alternator for a 2001 Ford Explorer 5.0 Liter Fuel Injected V8 with A/C and automatic transmission (VIN P) to the consumer at a dealership. Report price net of core charge (i.e., price after core is returned). Report core charge in comments. If only new alternator available, report new price as match. If price varies whether dealer installs, assume dealer installs but do not price labor. Survey: Dealer recommended brand.

Alternator (Subaru Legacy L). Price of a 90-amp remanufactured alternator for a 2001 Subaru Legacy L Sedan, 4 door, AWD, 2.5 Liter, 4 cylinder, 4 speed automatic transmission. Report price net of core charge (i.e., price after core is returned). Report core charge in comments. If only new alternator available, report new price as match. If price varies whether dealer installs, assume dealer installs but do not price labor. Survey: Dealer recommended brand.

Antacid. Ninety-six-count size of extra strength tablets. Survey: Tums EX 96 tablets.

Antibacterial Ointment. Half-ounce tube of antibacterial ointment. Do not price pain reliever ointment. Survey: Neosporin Original ½ oz.

Antibacterial Ointment. One-ounce tube of antibacterial ointment. Do not price pain reliever ointment. Survey: Neosporin Original 1 oz.

Apples. Price per pound, loose (not bagged) apples. If only bagged apples available, report bag weight. Survey: Red Delicious.

Area Rug (FurnitureOnline). Five by eight feet hand tufted rug. Include sales tax and shipping and handling. Survey: Matrix Rug, catalog number: GLT-1031.

Artificial Sweetener. One-hundred-count package of artificial sweetener. Survey: Equal 100 Ct.

Artificial Sweetener. Fifty-count package of artificial sweetener. Survey: Equal 50 Ct.

Aspirin. Fifty tablets of regular strength aspirin. Survey: Bayer, Regular Strength.

ATV-1. All terrain sports vehicle, 4x4, automatic with 455 cc engine. Electric with recoil backup start. Survey: 2006 Polaris Sportsman 450.

ATV-2. All terrain sports vehicle with 450 cc engine. Kick or electric start. Survey: 2006 Honda TRX450ER.

Auto Finance Rate. Interest rate for a 4-year loan on a new car with a down payment of 20 percent. Assume the loan applicant is a current bank customer who will make payments by cash or check and not by automatic deduction from the account. Assume excellent credit. Enter 7.65 percent as $7.650. If bank needs to know type of car, use specified Ford. Obtain interest rate and verify phone number. Survey: Interest percentage rate.

Auto Inspection. Annual cost of auto safety and emissions inspection required by local government. If not required annually prorate to annual. (AN and FA = certificate and inspection, every 2 years. JU = no emissions or safety inspection.) Survey: Auto inspection.

Baby Food. Four-ounce jar strained vegetables or fruit. Survey: Gerber 2nd.

Baby Food Formula. Thirty-two fluid-ounce bottle of infant formula with iron. Look for blue print on label. There are at least four other types of Similac with different color print and different prices. Survey: Similac Infant Formula with Iron R-T-F.

Babysitter. Minimum hourly wage appropriate to area. Survey: Government Wage Data.

Baking Dish 8 by 8 (Target/FM). Glass baking dish, 8 inch square glass, clear or tinted. Exclude baking dish with cover or lid. Survey: Pyrex, 8 x 8.

Baking Dish 8 by 8 (Wal-Mart). Glass baking dish, 8 inch square glass, clear or tinted. Exclude baking dish with cover or lid. Survey: Anchor Hocking, 8 x 8.

Baking Dish 9 by 13 (Target/FM). Glass baking dish, 9 inch by 13 inch glass, clear or tinted. Exclude baking dish with cover or lid. Survey: Pyrex, 9 x 13.

Baking Dish 9 by 13 (Wal-Mart). Glass baking dish, 9 inch by 13 inch glass, clear or tinted. Exclude baking dish with cover or lid. Survey: Pyrex, 9 x 13.

Bananas. Price per pound of bananas. Survey: Dole or Chiquita.

Bath Towel (Target/FM). Bath towel, approximately 58 inches by 32 inches wide, 100 percent cotton, medium weight, any color. Survey: Fieldcrest Classic (Target), Columbia (Fred Meyer).

Bath Towel (Wal-Mart). Approximately 52 inches by 30 inches wide, 100 percent cotton, medium weight. Side hem is woven selvage. Bottom hem may be folded. Survey: Home Trends.

Beer at Home (Cans). Six-pack of 12 ounce cans. Do not price refrigerated beer unless that is the only type available. Survey: Budweiser.

Beer Away (Casual). One glass of beer. Check sales tax and include in price. Survey: Budweiser.

Beer Away (FD-type). One glass of beer. Check sales tax and include in price. Survey: Budweiser.

Board Game (Target/FM). Price standard edition board game, not deluxe. Survey: Sorry!

Board Game (Wal-Mart). Price standard edition board game, not deluxe. Survey: Sorry!

Book, Paperback. Store price (not publishers list price unless that is the store price) for top-selling fiction, paperback book. Survey: Cordinas Royal Family by Nora Roberts or The Broker by John Grisham.

Book, Paperback (Amazon). Internet price with shipping and any applicable taxes for top-selling fiction, paperback book. Survey: Cordinas Royal Family by Nora Roberts (Amazon), or The Broker by John Grisham (Amazon).

Bookshelf Stereo System (Target/FM). Stereo shelf system, 400-watt, 3-disc CD changer and dual cassette decks, 150-watt 8” subwoofer and 3-way dual 5” woofer main speakers; includes remote control. Survey: Sony Shelf System (MHCGX450).

Bookshelf Stereo System (Wal-Mart). Home Stereo System, five-CD changer, AM/FM stereo tuner, CD storage compartment, remote control. Survey: Durabrand—CD2160.

Bowling. One game of open (or non-league) 10-pin bowling on a weekday (Monday through Friday) between the hours of 10 a.m. and 5 p.m. Exclude shoe rental. If priced by the hour, report hourly rate divided by five (i.e., estimated number of games per hour) and note hourly rate in comments. Do not price duck-pin bowling. Survey: Bowling.

Boys Jeans (JCP/Sears). Relaxed fit, size range 9 to 14, pre-washed jeans, not bleached, stone-washed or designer jeans. Survey: Levis 550 Relaxed Fit.

Boys Polo Shirt (JCP/Sears). Knit polo-type short sleeve shirt with collar, solid color, cotton or cotton/polyester, size range 8 to 14. Survey: Polo Club.

Boys T-Shirt (JCP/Sears). Screen-printed t-shirt for boys ages 8 thru 10 (sizes 7 to 14). Pullover with crew neck, short sleeves and polyester/cotton blend. Do not price team logo shirts. Survey: Canyon River Blues.

Bread, Wheat, Butter Top. Loaf of national brand sliced wheat bread, 20 to 24 ounces. Survey: Home Pride.

Bread, Wheat. Loaf of store brand sliced wheat bread, 22 to 24 ounces. Survey: Store brand.

Bread, White. Loaf of national brand sliced white bread, 22 to 24 ounces. Holsum is an equivalent brand. Survey: Wonder Buttermilk, Giant, Jumbo Sandwich.

Bread, White, Butter Top. Loaf of store brand sliced white bread, 22 to 24 ounces. Survey: Store brand.

Breakfast Full Service. Two to four strips of bacon or sausages, two eggs, toast, hash browns, coffee, and small juice. Check sales tax and include in price. At Dennys price the Two-Egg Breakfast. At IHOP price the Quick Two-Egg Breakfast. Survey: Bacon and eggs breakfast.

Cable TV Service. One month of digital cable service. Include converter and universal remote fees. Do not price value packages or premium channels; i.e., Showtime, HBO, Cinemax. Do not report hookup charges. Itemize taxes and fees as percent rates or amounts and add to price. Note in comments whether digital or analog service. If both digital and analog service is provided, price digital service and include the analog price in comments. Survey: Local provider.

Camera Film (Target/FM). Four-pack, 35 millimeter, 24 exposure, 400 ASA. Survey: Kodak Max 400.

Camera Film (Wal-Mart). Four-pack, 35 millimeter, 24 exposure, 400 ASA. Survey: Kodak Max 400.

Candy Bar. One regular size candy bar, weight approximately 1.5 to 2 ounces. Do not price king-size or multi-pack. Survey: Snickers.

Canned Chopped Ham. Twelve-ounce can of processed luncheon meat. Do not price turkey, light, or smoked varieties. Survey: SPAM.

Canned Green Beans. Fourteen to 15-ounce can of plain-cut green beans. Survey: Del Monte.

Canned Ham. Three-pound canned ham. Survey: Hormel, Black Label.

Canned Peaches. Fifteen to 16-ounce can of sliced peaches. Survey: Del Monte.

Canned Soup. Regular size (approximately 10.7 ounce) can of condensed soup. Not hearty, reduced fat or salt free varieties. Survey: Campbells Chicken Noodle Soup.

Canned Tuna. Chunk light tuna, packed in spring water (approximately 6 ounces). Do not price fancy style or albacore. Survey: StarKist.

Cappuccino. One 12-ounce “tall” cup of cappuccino. Survey: Starbucks type.

Cellular Phone 450 Minute Plan. Nationwide cellular phone service with 450 anytime minutes per month with no additional charge for long distance calls. Price via internet all areas at the same time during the DC area survey. Itemize taxes and fees and add to price. Survey: Major provider.

Cellular Phone 900 Minute Plan. Nationwide cellular phone service with 900 anytime minutes per month with no additional charge for long distance calls. Price via internet all areas at the same time during the DC area survey. Itemize taxes and fees and add to price. Survey: Major provider.

Cereal. Raisin bran cereal, approximately 20-ounce box. Survey: Kelloggs Raisin Bran.

Charcoal Grill. Charcoal grill, heavy gauge, porcelain-enameled, steel lid, approximately 22.5 inches in diameter. Survey: Weber 1 Touch Silver 22-1/2 inch, model 741001.

Cheese. Twelve-ounce package cheese, 16 slices. Okay to price yellow or white, but do not price reduced fat or fat-free varieties. Survey: Kraft Singles, American.

Chevrolet Silverado 1500. Purchase price of a 2006 Chevrolet Silverado 1500 Regular Cab LT, 4x4, 2 door, 8 foot bed, 4.8 liter, V8, 4-speed automatic overdrive transmission. Please note the price of any special option packages. In Alaska, include price of cold weather package, if extra. [Use auto dealer worksheet]. Survey: Chevrolet Silverado 1500 LT.

Chevy Lic., Reg., Taxes, and Insp. License, registration, periodic taxes (e.g., road or personal property tax, but NOT one-time taxes such as sales tax). Survey: Specified Chevy.

Chicken Breast, Skinless, Boneless. Price per pound of USDA grade boneless, skinless, fresh chicken breasts. Survey: National/Regional brand (e.g. Perdue).

Chicken, Whole, Fresh. Price per pound of USDA graded, whole (Fryer), fresh chicken. If fryer not available price roaster as substitute. Survey: National/Regional brand (e.g. Perdue).

Chuck Roast, Bone-In. Price per pound, fresh (not frozen or previously frozen) bone-in beef chuck pot roast. Price USDA Select or ungraded if available. If not available, note USDA grade in comments. Use average size package; i.e., not family-pack, value-pack, super-saver pack, or equivalent. Survey: Chuck Roast with bone.

Chuck Roast, Boneless. Price per pound, fresh (not frozen or previously frozen) boneless beef chuck pot roast. Price USDA Select or un-graded if available. If not available, note USDA grade in comments. Use average size package; i.e., not family-pack, value-pack, super-saver pack, or equivalent. Survey: Chuck Roast boneless.

Cigarettes. One pack filter kings. Include State and/or Federal tobacco tax in price if normally part of the price. Report sales tax in the same manner as any other taxable item. Survey: Marlboro.

Claw Hammer. Twenty-ounce, straight claw hammer with shock reduction grip. Head and handle forged in one piece. Survey: Estwing (E3-20S).

Coffee. One 12-ounce “tall” fresh brewed cup of coffee. Check sales tax and include in price. Survey: Starbucks type.

Coffee, Ground. Thirteen-ounce can. Do not price decaffeinated or special roasts. Survey: Folgers Classic Roast.

Compact Disc (Target/FM). Current best-selling CD. Do not price double CDs. Survey: X&Y by Coldplay or Some Hearts by Carrie Underwood.

Compact Disc (Wal-Mart). Current best-selling CD. Do not price double CDs. Survey: X&Y by Coldplay or Some Hearts by Carrie Underwood.

Contact Lenses. One box of disposable contact lenses, three pairs in the box. A pair lasts 2 weeks. Survey: Bausch & Lomb, Acuvue 2.

Cookies. Approximately sixteen ounce package of chocolate chip cookies. Survey: Nabisco Chips Ahoy!

Cooking Oil. Forty-eight fluid ounce plastic bottle of vegetable oil. Survey: Crisco.

Cordless Phone (Target/FM). Cordless phone, 2.4 GHz with Caller ID and digital answering machine. Includes base unit, charger and 2 handsets. Survey: Panasonic (KX-TG2432B).

Cordless Phone (Wal-Mart). Cordless phone, 2.4 GHz with Caller ID and digital answering machine. Includes base unit, charger and 2 handsets. Survey: Panasonic (KX-TG2432B).

Credit Card Gold Interest & Annual. Obtain credit card interest rate of a gold card and apply it to the national average balance ($8,562) plus any annual fees charged by the bank. Price standard plan without airline miles or other special offers. Assume excellent credit. Survey: Gold VISA/Master Card.

Cremation. Direct cremation. Includes removal of remains, local transportation to crematory, necessary body care and minimal services of the staff. Include crematory fee. Do not include price of urn. Ask if crematory fee, Medical Examiner fee, and minimum basic container are included. Ask if anything other than basic service, such as a funeral service, is included. Survey: Cremation.

Cured Ham, Boneless. Price per pound of a boneless cured ham. Do not price sliced varieties. Survey: Hormel, Cure 81.

Curved Claw Hammer. Sixteen-ounce, curved claw hammer with jacketed graphite handle and nylon vinyl grip. Survey: Stanley (51-505).

Day Care. One month of day care for a 3-year old child, 5 days a week, about 10 hours per day. If monthly rate is not available, (1) obtain weekly rate, (2) record rate in the comments section, and (3) multiply weekly rate by 4.33 to obtain monthly rate. Survey: Day care.

Dental Clean and Check-Up. Current adult patient charge for routine exam, including two bite-wing x-rays and cleaning of teeth with light scaling and polishing. No special treatment of gums or teeth. Do not price an initial visit or specialist or oral surgeon. (Dental codes: 0120, 0272, 1110.) Survey: Dentist.

Dental Crown. Full crown on a lower molar, porcelain fused to a high noble metal. Include price of preparation or restoration of tooth to accept crown. Price for an adult. (Dental code: 2750.) Survey: Dentist.

Dental Filling. Lower molar, two surfaces resin-based composite filling. Price for an adult. (Dental code: 2392.) Survey: Dentist.

Dining Table (FurnitureOnline). Dining table with bookmatched veneer tops, pedestal base, 18” leaf extension with a Nutmeg Brown Cherry finish. Include sales tax and shipping and handling. Survey: Dining Table, catalog number: FOG-DN1034.

Dinner Full Service (FD-Type). Filet mignon (6 to 10 ounce) with one or two small side dishes (e.g., rice or potato), salad and coffee. Do not include tip. Check sales tax and include in price. Survey: Filet Mignon.

Dinner Full Service (FD-Type). NY strip steak (10 to 16 ounce) with one or two small side dishes (e.g., rice or potato), salad and coffee. Do not include tip. Check sales tax and include in price. Survey: Steak dinner, NY strip.

Dinner Full Service (PH-Type). T-bone steak (8 to 13 ounce) with one or two small side dishes (e.g., rice or potato), salad and coffee. Do not include tip. Check sales tax and include in price. Survey: Steak dinner, T-Bone.

Dinner Full-Service (Casual-1). Sirloin steak (8 to 12 ounce) with one or two small side dishes (e.g., rice or potato), side salad or salad bar, and coffee. Meal should not include dessert. Check sales tax and include in price. Survey: Steak dinner, sirloin.

Dinner Full-Service (Casual-2). NY strip steak (8 to 12 ounce) with one or two small side dishes (e.g., rice or potato), side salad or salad bar, and coffee. Meal should not include dessert. Check sales tax and include in price. Survey: NY strip steak.

Dish Set (Target/FM). Sixteen-piece dinnerware set. Service for 4 includes: dinner plates, salad plates, bowls and mugs. Stoneware. Shale or Adobe Red pattern. Survey: Prairie 16-pc Dinnerware Set.

Dish Set (Wal-Mart). Corelle Chutney pattern tableware 20-piece set. Includes: 4 dinner plates, 4 luncheon plates, 4 bowls, 4 cups, and 4 saucers. Survey: Corelle, Chutney.

Disposable Diapers (Grocery). Mega pack disposable diapers. Survey: Pampers Baby Dry, Mega, any size and count.

Disposable Diapers (Grocery). Mega pack disposable diapers. Survey: Huggies Baby Shape, Mega, any size and count.

Doctor Office Visit. Typical fee for office visit for an adult when medical advice or simple treatment is needed. Do not price initial visit. Exclude regular physical examination, injections, medications, or lab tests. Use general practitioner not pediatrician or other specialist. Medical Code: 99213. Survey: Doctor.

Drill, Cord (Lowes). Variable speed, 3/8-inch electric drill, keyless chuck, approximately 5 amp. Survey: Black & Decker DR220K (Lowes).

Drill, Cord. Variable speed, 3/8-inch electric drill, keyless chuck, approximately 5 amp. Survey: Black & Decker DR201K.

Drill, Cordless. Variable speed, reversible, 3/8-inch keyless chuck, 14.4 volt, electric drill, with battery charger. Survey: DeWalt (DC728KA).

Dry Clean Man's Suit. Dry cleaning of a two-piece Man's suit of typical fabric. Do not price for silk, suede or other unusual materials. Survey: Dry cleaning.

DVD Movie (Target/FM). Current best-selling DVD movie, (widescreen edition). Survey: Walk the Line or The Constant Gardener.

DVD Movie (Wal-Mart). Current best-selling DVD movie. Survey: Walk the Line (Widescreen), The Constant Gardener (Widescreen).

DVD Player. Single disc DVD player with remote control. Note: Model numbers may vary slightly. Survey: Sony (DVP-NS50P/S).

DVD Player (Target/FM). Single disc DVD player with remote control. Note: Model numbers may vary slightly. Survey: SONY (DVP-NS50P/S).

DVD Player (Wal-Mart). Single disc DVD player with remote control. Note: Model numbers may vary slightly. Survey: Sony DVD Player (DVP-NS50P/S).

Education, Private K-12. Cost of tuition and all access fees, materials fees, books, and registration fees that are not included in tuition. If price varies by grade, record in comments price for each grade. Note any annual, recurring fees; i.e., registration, computer, activity, etc. If pricing at church-affiliated schools, report price for a non-church member. Survey: Private school K-12.

Eggs (White, Large). One dozen large white Grade AA eggs. If multiple brands available, match the lowest priced item and note in comments. Survey: Store brand.

Electric, Gas, and Oil Rates. Utility rates for electricity, gas and oil, including all taxes and surcharges, etc. in effect for the last 12 months. Survey: Local provider.

Eye Round Roast, Boneless. Price per pound, fresh (not frozen or previously frozen) boneless eye round roast. Price USDA Select or un-graded if available. If not available, note USDA grade in comments. Use average size package, i.e., not family-pack, value-pack, super-saver pack, or equivalent. Survey: Store brand.

Fast Food Breakfast. Breakfast value meal, including hash browns and coffee. Check sales tax and include in price. Sausage McMuffin and Egg, and Bacon Egg and Cheese Biscuit value meals are equivalents. Survey: Egg McMuffin value meal.

Fast Food Dinner Burger. Burger value meal, includes fries and soda. Price medium size. Check sales tax and include in price. Survey: Big Mac Value Meal (Med.).

Fast Food Dinner Chicken. Two-piece breast and wing combo, with one side item, biscuit, and a medium drink. Check sales tax and include in price. Survey: Two pc. Breast & Wing Combo.

Fast Food Dinner Pizza. Medium cheese pizza (without extra cheese) with salad and small soft drink. Check sales tax and include in price. Survey: Medium cheese pizza.

Fast Food Dinner Sub. Six-inch cold cut combo, includes sub, chips and a medium drink. Check sales tax and include in price. Survey: Cold Cut Combo (6 inch).

Fast Food Lunch Burger. Burger value meal, includes fries and soda. Price medium size. Check sales tax and include in price. Survey: Big Mac Value Meal (Med.).

Fast Food Lunch Chicken. Two-piece breast and wing combo, with one side item, biscuit, and a medium drink. Check sales tax and include in price. Survey: Two pc. Breast & Wing Combo.

Fast Food Lunch Pizza. Personal size cheese pizza (without extra cheese) or one slice of cheese pizza. Include price of a small soft drink. Do not include price of salad or other side dishes. Check sales tax and include in price. Survey: Cheese pizza.

Fast Food Lunch Sub. Six-inch cold cut combo, includes sub, chips and a medium drink. Check sales tax and include in price. Survey: Cold Cut Combo (6 inch).

FEGLI (Life Insurance). Federal life insurance. This item is not surveyed locally because it is constant across all areas. Survey: FEGLI.

FEHB Insurance. Self-only and family coverage. This item is not surveyed locally. OPM estimates insurance prices from employee premiums and enrollment data from the Central Personnel Data File. Survey: FEHB.

FERS/CSRS Contributions. Federal retirement contributions. This item is not surveyed locally because it is constant across all areas. Survey: FERS/CSRS.

Filing Cabinet (Target/FM). Metal, two-drawer, vertical file cabinet, approximately 24 by 14 by 18 inches. File drawer accommodates hanging files. Top drawer has lock. Survey: Space Solutions Ready File (10002).

Filing Cabinet (Wal-Mart). Metal, two-drawer, vertical file cabinet, approximately 24 by 14 by 18 inches. File drawer accommodates hanging files. Top drawer has lock. Survey: Space Solutions Smart File (16024).

Film Processing 1 Hr (Target/FM). One-hour color film processing for 24 exposure, 35 mm, with 4 by 6 inch double prints. Survey: In-store processing.

Film Processing 1 Hr (Wal-Mart). One-hour color film processing for 24 exposure, 35 mm, with 4 by 6 inch double prints. Survey: Wal-Mart in-store processing.

Ford Explorer 4WD. Purchase price of a 2006 Ford Explorer XLT, 4x4, 4.6 liter, 8 cylinder, 4 door, 5-speed automatic overdrive transmission. Please note the price of any special option packages. (Use auto dealer worksheet.) Survey: 2006 Ford Explorer XLT.

Ford Lic., Reg., Taxes, and Insp. License, registration, periodic taxes (e.g., road or personal property tax, but NOT one-time taxes such as sales tax). Survey: Specified Ford.

Fresh Cod. Price one pound of cod fillet, fresh. Survey: Store brand.

Frozen Fish Fillet-1. Price of one box (10 count) approximately 19 ounces of frozen ocean whitefish crunchy golden breaded fillets. Survey: Gortons breaded fish fillets.

Frozen Fish Fillet-2. Price of one box (8 to 10 count) approximately 21.5 ounces of frozen ocean whitefish crispy golden battered fillets. Survey: Van De Kamps battered fish fillets.

Frozen Meal-1. One approximately 8.5-ounce frozen meal. Survey: Lean Cuisine Chicken w/Almonds.

Frozen Meal-2. One approximately 11-ounce frozen meal. Survey: Healthy Choice Grilled Chicken Basil.

Frozen Orange Juice. Twelve fluid-ounce can of orange juice concentrate (makes 48 fluid ounces). Do not price calcium fortified, pulp free, country style, etc. Survey: Minute Maid.

Frozen Vegetables. Seven-and-1/2-ounce package of frozen green beans and almonds, no sauce. Survey: Green Giant Green Beans & Almonds.

Frozen Waffles. Ten-count box of frozen waffles per package. Do not price fat-free or whole wheat varieties. Survey: Eggo (10 ct).

Fruit Drink. Ten pack of fruit drink, not juice, any flavor. Survey: CapriSun.

Fruit Juice. Sixty-four-ounce bottle of cranberry juice. Survey: Ocean Spray Cranberry Juice.

Gasoline, Regular Unleaded. One gallon of self-service, unleaded, regular gasoline. Survey: Major brand.

Gelatin. Three-ounce box of gelatin dessert. Survey: JELL-O.

General Admission Evening Film. Adult price for evening showing, current-release (currently advertised on television). Report weekend evening price if different from weekday. Survey: Movie.

Girls Dress (H.A.). Three print sundress, combed cotton, slipover style with pleated ruffles at the caplet sleeves and hem, and a raised waist. Back button placket, knee length. Include sales tax and shipping and handling. Survey: Best Friends Sundress, number: CD30843.

Girls Dress (JCP/Sears). Girls print chiffon dress. Simple lines, short sleeves. Polyester, machine washable. Survey: Store brand.

Girls Jeans (JCP/Sears). Girls jeans, slim fit in the seat and thighs with flared legs and traditional 5-pocket styling, for ages 8 to 10 (size 7 to 14). Survey: Levis 517.

Girls Polo Type Top (JCP/Sears). Girls polo cotton blend, striped or solid pattern. Price sizes 7 to14 or S, M, and L in girls sizes. Survey: Lands End.

Ground Beef (20% fat). Price per pound, fresh (not frozen or previously frozen) 20 percent fat ground beef or ground chuck. Use average size package; i.e., not family-pack, value-pack, super-saver pack, or equivalent. Survey: Store brand (20% fat).

Ground Beef (7% fat). Price per pound, fresh (not frozen or previously frozen) approximately 7 percent fat ground beef or ground chuck. Use average size package; i.e., not family-pack, value-pack, super-saver pack, or equivalent. Survey: Store brand (7% fat).

Hamburger Buns. Eight-count package of sliced enriched white hamburger buns. Holsum is an equivalent brand. Survey: Wonder.

Health Club Membership. One-year regular, individual membership for existing member. Do not price special offers. If no yearly rate, price month and prorate. Service must include free weights, cardiovascular equipment, and aerobic classes. Report as substitute if pool, tennis, racquet ball, or similar amenities included. Survey: Golds Gym type.

Hospital Room (Private). Daily charge for a private room. Include food and routine care. Exclude cost of operating room, surgery, medicine, lab fees, etc. Do not price specialty rooms, e.g., those in cardiac care units. Survey: Private Room.

Hospital Room (Semi-Private). Daily charge for a semi-private room. Include food and routine care. Exclude cost of operating room, surgery, medicine, lab fees, etc. Do not price specialty rooms, e.g., those in cardiac care units. Survey: Semi-private room.

Hot Dogs, Beef Franks. Sixteen-ounce package, 10-count, USDA graded, all-beef franks. Do not price chicken, turkey, extra lean, or fat-free frankfurters. Survey: Oscar Mayer Beef Franks.

Housekeeping (Hourly Wage). Local hourly wage for a housekeeper or janitor. BLS code 37-2012. Try to obtain from the local department of labor. Survey: Government Wage Data.

Ice Cream. Fifty-six ounce (1.75 quart) vanilla flavored ice cream. Do not price ice milk, fat-free, or frozen yogurt. Survey: Breyers/Edys Grand Ice Cream.

Infants Sleeper (JCP/Sears). One-piece sleeping garment with legs, covering the body including the feet. Stretch cotton/polyester terry. Washable. Can be packaged or hanging. Size: New born. Survey: Carters NewBorn.

Insurance, Chevrolet. Annual premium for surveyed Chevrolet. Thirty-five-year-old married male, currently insured, no accidents/violations. Commuting 15 miles one-way per day, annual 15,000 miles. Bodily injury 100/300; property damage 25; medical 15 or personal injury protection 50; uninsured motorist 100/300; comprehensive deductible 100; and collision deductible 250. If this level of coverage is not available, price the policy with the closest coverage. Car value $27,500. Survey: National company if available.

Insurance, Subaru. Annual premium for surveyed Subaru. Thirty-five-year-old married male, currently insured, no accidents/violations. Commuting 15 miles one-way per day, annual 15,000 miles. Bodily injury 100/300; property damage 25; medical 15 or personal injury protection 50; uninsured motorist 100/300; comprehensive deductible 100; and collision deductible 250. If this level of coverage is not available, price the policy with the closest coverage. Car value $25,920. Survey: National company if available.

Internet Service Cable. Monthly charge for unlimited cable Internet access. Itemize taxes and fees and add to price. Survey: Local cable provider.

Internet Service DSL. Monthly charge for unlimited DSL Internet access. Itemize taxes and fees and add to price. Survey: Local DSL provider.

Jelly-1. Eighteen-ounce jar of grape jam or jelly. Survey: Smuckers Concord Grape.

Jelly-2. Eighteen-ounce jar of grape jam or jelly. Survey: Welchs Grape Jelly.

Jewelry Earring Set (JCP/Sears). A box set of fake diamond earrings and necklace. Survey: Store Brand.

Ketchup. Twenty-four-ounce plastic squeeze bottle. Survey: Heinz.

Kitchen Range, Electric Coil. Thirty-inch free-standing electric range with coil burners, self-cleaning oven. Survey: GE—JBP35WKWW.

Kitchen Range, Electric Coil (Sears). Thirty-inch free-standing electric range with coil burners, self-cleaning oven. Survey: GE—JBP35DKWW.

Kitchen Range, Smooth Top-1. Thirty-inch free-standing smooth top electric range with radiant burners, self-cleaning oven. Survey: GE—JBP62BKWH.

Kitchen Range, Smooth Top-2. Thirty-inch free-standing smooth top electric range with radiant burners, self-cleaning oven. Survey: Hotpoint—RB790WKWW.

Kitchen Range, Smooth Top (S). Thirty-inch free-standing smooth top electric range with radiant burners, warming zone, self-cleaning oven, stainless steel. Survey: GE—JBP71SKSS.

Laptop Computer. Laptop with Intel Core Duo Processor T2300, 1.66 GHz, 17 inch wide screen XGA+, 512 MB, 100 GB hard drive, CD/DVD combo. (Include tax and shipping and handling, if applicable.) Survey: Dell Inspiron E1705.

Laundry Soap. One-hundred fluid-ounces of liquid household laundry detergent. Survey: Wisk.

Lawn Care (Hourly Wage). Local wage for gardener or grounds keeper. BLS code 37-3011. Try to obtain from the local department of labor. Survey: Government Wage Data.

Lawn Mower, Self Propelled. Twenty-one to 22-inch, self-propelled approximately 6.5 horsepower gas lawn mower. Survey: Toro high wheel recycler (20012).

Lawn Mower, Self Propelled (Sears). Twenty-one to 22-inch, self-propelled approximately 6.5 horsepower gas lawn mower. Survey: Craftsman (37482) Rear Bag Mower.

Lawn Trimmer, Gas-1. Gas powered 25cc 2-cycle engine, 17 to 18-inch wide cut. Straight or curved shaft. Bump or automatic line feed. Note: Model numbers may vary slightly by dealer. Survey: Homelite (UT20778).

Lawn Trimmer, Gas-2. Gas powered 25cc, 17-inch wide cut string trimmer. Survey: Homelite UT20042.

Lawn Trimmer, Gas (Sears). Gas powered 34cc Briggs & Stratton 4-cycle engine, 17 to 18-inch wide cut. Straight or curved shaft. Bump or automatic line feed. Note: Model numbers may vary slightly by dealer. Survey: Craftsman (79612).

Lettuce, Iceberg. One head of iceberg lettuce. Survey: Store brand.

Lettuce, Romaine. One pound of romaine lettuce, not hearts. If only sold by each, note typical weight in comments. Survey: Store brand.

Lipstick-1. One tube, any color lipstick. Survey: Revlon Super Lustrous.

Lipstick-2. One tube, any color lipstick. Survey: Maybelline Moisture Whip.

Living Room Chair (FurnitureOnline). Three-way recliner, microfiber upholstery, wood frame construction. Include sales tax and shipping and handling. Survey: Nascar 3 Way Recliner, number BAB-8100N.

Long Distance Call Chicago. Price of a 10-minute call using regional carrier, received on a weekday in Chicago at 8:00 p.m. (Chicago time); direct dial. Itemize taxes and fees and add to price. Survey: AT&T or Sprint.

Long Distance Call Los Angeles. Price of a 10-minute call using regional carrier, received on a weekday in Los Angeles at 8:00 p.m. (LA time); direct dial. Itemize taxes and fees and add to price. Survey: AT&T or Sprint.

Long Distance Call New York. Price of a 10-minute call using regional carrier, received on a weekday in New York at 8:00 p.m. (NY time); direct dial. Itemize taxes and fees and add to price. Survey: AT&T or Sprint.

Lunch Full Service (PH-type). Cheeseburger platter with fries and small soft drink. Check sales tax and include in price. Survey: Cheeseburger platter.

Lunch Full-Service (Casual). Cheeseburger platter with fries and small soft drink. Check sales tax and include in price. Survey: Cheeseburger platter.

Lunch Meat, All Beef. Eight-ounce package, all-beef variety, sliced bologna. Survey: Oscar Mayer Beef Bologna.

Magazine. Store price (not publishers list price unless that is the store price) for a single copy. Survey: InStyle.

Magazine Subscription. One-year home delivery price of a magazine. This is priced during the DC area survey via the Internet. Survey: Time.com.

Man's Athletic Shoe (Shoe Store). Man's walking shoe, soft leather upper. Full-length Phylon midsole with low-pressure Air-Sole units in heel and forefoot. Composition rubber outsole. Survey: Reebok Classic.

Man's Dress Shirt (JCP/Sears). White or solid color long sleeve button cuff plain collar dress shirt, cotton blend. Survey: Geoffrey Beene.

Man's Dress Shoe Rubber Sole. Leather oxford with cushioned insole and heel pad. Shoe has combination leather and rubber sole. Survey: Rockport.

Man's Hiking Boot (HTO/FMS). Gore-Tex waterproof, breathable boot, gusseted tongue, Nubuck leather upper, AgION anti-microbial lining, easy-glide reinforced instep eyelet, Vibram outsole, TPU shank. Survey: The North Face Conness GTX.

Man's Hiking Boot (REI). Split-grain leather with Cordura nylon upper, Gore-Tex and nylon lining, Polyurethane midsole, DuoAsoflex support, rubber outsole. Survey: Asolo Fugitive GTX.

Man's Hiking Boot (Sears). Timberland steel toe hiker with leather construction and a rubber outsole. Toe is constructed of steel. Steel shank. Survey: Timberland Steel Toe Hiker Grey.

Man's Jeans (JCP/Sears). Relaxed-fit jeans. Survey: Levis Red Tab 550.

Man's Khaki Pants (JCP/Sears). Man's casual khakis, any color, relaxed-fit or classic-fit, no wrinkle, flat-front or pleated, cotton twill. Do not price expandable waistband. Survey: Dockers.

Man's Leather Dress Shoe (JCP). Full-grain leather captoe oxford, leather upper, leather outsole, with leather lining and a comfort heel cup. Slip-resistant sole. Price by catalog and include sales tax and shipping and handling. Survey: Florsheim Lexington Captoe, number A014-9043.

Man's Parka (Cabelas). Man's goose down parka, regular size. Price by catalog and include sales tax and shipping and handling. Survey: North Slope (XF-920167).

Man's Regular Haircut. Regular haircut for short to medium length hair. Survey: Hair salon cut.

Man's Sport Watch (Target/FM). Digital watch with stainless steel case back, 30-lap memory, 100-hour chronograph, 2 mode timers and alarm, INDIGLO nightlight, and water resistant to 100 meters. Strap and watch trim colors may vary. Survey: Timex Ironman.

Man's Sport Watch (Wal-Mart). Digital compass watch with fast wrap band, 100-hour chronograph, INDIGLO night-light, water-resistant up to 100 meters, digital display, alarm and countdown timer. Strap and watch trim colors may vary. Survey: Timex Expedition (47512).

Man's Suit (JCP). Six-button, double-breasted worsted wool suit coat, flap pockets, chest pocket, dry clean only. Regular size with full acetate lining. Price coat as a separate, not combo with trousers. Price by catalog and include sales tax and shipping and handling. Survey: Stafford Suit Coat, number A957-0249.

Man's Undershirt (JCP/Sears). One package of three mens v-neck T-shirts, white, 100 percent cotton undershirts with short sleeves, regular size. Survey: Jockey.

Margarine. One pound (four sticks) regular margarine. Do not price reduced fat variety. Survey: Fleischmanns.

Mayonnaise. Thirty or 32-ounce jar of mayonnaise. Do not price light or fat-free. Survey: Best Foods/Hellmanns Real Mayonnaise.

Measuring Tape. Twenty-five-foot tape measure with blade armor coating. Survey: Stanley 25 Ft. FatMax (33-725H).

Milk, Low-Fat. One-half-gallon, 2 percent milk. Survey: Store brand.

Mover (Hourly Wage). Local hourly wage for a mover or material handler. BLS code 53-7062. Try to obtain from the local department of labor. Survey: Government Wage Data.

Newspaper Subscription, Local. One-year home delivery of the largest selling daily local paper (including Sunday edition) distributed in the area. Do not include tip. Survey: Major local newspaper.

Newspaper, Newsstand, Local. Local newspaper at a newsstand (in box), weekday issue. If a newsstand box is not available, price at a newsstand and indicate whether price includes tax. Survey: Newspaper, newsstand, local.

Newspaper, Newsstand, NY Times. New York Times newspaper at a newsstand (in box), weekday issue. If a newsstand box is not available, price at a newsstand and indicate whether price includes tax. Survey: New York Times, Weekday.

Newspaper, Newsstand, USA Today. USA Today newspaper at a newsstand (in box), weekday issue. If a newsstand box is not available, price at a newsstand and indicate whether price includes tax. Survey: USA Today, Weekday.

Non-Aspirin Pain Reliever. One hundred geltabs of acetaminophen 500 mg. Survey: Tylenol Ex Str Geltabs (100 cnt).

Non-Aspirin Pain Reliever. Fifty geltabs of acetaminophen 500 mg. Survey: Tylenol Ex Str Geltabs (50 cnt).

Oranges. Price per pound of loose, large (3/4 lb or more), Navel oranges. Survey: National brand e.g. Sunkist.

Oregano Leaves. Three-quarter-ounce bottle of oregano leaves. Survey: McCormick.

Parcel Post to Chicago. Price of mailing a 10-pound package to Chicago (zip code 60602) using regular mail delivery service. Survey: Parcel Post to Chicago.

Parcel Post to Los Angeles. Price of mailing a 10-pound package to Los Angeles (zip code 90013) using regular mail delivery service. Survey: Parcel Post to Los Angeles.

Parcel Post to New York. Price of mailing a 10-pound package to New York (zip code 10109) using regular mail delivery service. Survey: Parcel Post to New York.

Pen (Target/FM). Ten-pack round stick medium point pen. Survey: BIC.

Pen (Wal-Mart). Ten-pack round stick medium point pen. Survey: Paper Mate.

Pet Food. Twenty-two-pound bag of adult dry dog food. Survey: Pedigree Complete Nutrition.

Piano Lessons. Monthly fee for half-hour beginner private piano lessons for an adult, one lesson per week. Price through a music studio if possible. If only per lesson price is available, prorate using 1/2 hour lesson times 4.333. If only 1-hour lesson is available prorate accordingly. Survey: Piano Lessons.

Pillow-Top Mattress (Mattress.com). Full-size pillow top mattress and box spring set. Include sales tax and shipping and handling. Survey: The W Bed Pillow Top Mattress Set.

Plant Food. Twenty-four-ounce container of granulated all purpose plant food. Survey: Miracle Gro.

Pork Chops Center Cut, Bone-In. Price per pound, fresh (not frozen or previously frozen) center cut, bone-in, pork loin chops. Sirloin and blade chops are not comparable. Use average size package, i.e., not family-pack, value-pack, super-saver pack, or equivalent. If multiple brands available, match the lowest priced item and note in comments. Survey: Store brand.

Pork Chops Center Cut, Boneless. Price per pound, fresh (not frozen or previously frozen) pork chops, center cut, boneless, loin chops. Sirloin and blade chops are not comparable. Use average size package, i.e., not family-pack, value-pack, super-saver pack, or equivalent. If multiple brands available, match the lowest priced item and note in comments. Survey: Store brand.

Potato Chips. One 5.2 to 6-ounce container of regular potato chips. Do not price fat-free. Survey: Pringles.

Potatoes. Price per pound of loose potatoes. Survey: Russet or Idaho Baking.

Prescription Drug (Non-Generic). Nexium, 30 capsules 40 mg. Survey: Nexium (40 mg).

Prescription Drug (Generic). Amoxicillin, 30 capsules, 250 mg. Survey: Amoxicillin.

Printer, Color, Photo. Color inkjet all-in-one printer, flatbed scanner, copier. Survey: HP PSC 1610 All-In-One.

Red Roses. One-dozen long stemmed, fresh cut red roses wrapped in floral paper, purchased in store, not delivered. Do not price boxed or roses arranged in vase. Survey: Dozen red roses.

Refrigerator—Side-by-Side. Side-by-side refrigerator, approximately 25 cubic feet, with factory installed ice maker, water filter, and ice and water dispenser through the door. Survey: GE—GSH25JFRWW.

Refrigerator—Side-by-Side (Lowes). Side-by-side refrigerator, approximately 26 cubic feet, with factory installed ice maker, water filter, and dispenser. Survey: Whirlpool—GS6SHEXNL.

Refrigerator—Side-by-Side (Sears). Side-by-side refrigerator, approximately 25 cubic feet, with factory installed ice maker, water filter, and ice and water dispenser through the do or. Survey: Kenmore Elite—56712.

Refrigerator—Top Mount-1. Top freezer refrigerator, approximately 21 cubic feet, with factory installed ice maker, water filter, and dispenser. Survey: Whirlpool—ET1FHTXMQ.

Refrigerator—Top Mount-2. Top freezer refrigerator, approximately 18 cubic feet, without ice maker. Survey: GE—GTS18FBSWW.

Rental Data. Rent index from hedonic regressions that OPM conducts using contractor-provided survey data. Survey: Monthly rental data from OPM.

Renter Insurance Low. One-year of renters insurance (HO-4) coverage for $25,000 of contents. In the COLA areas, policy must cover hurricane, earthquake, and other catastrophic damage. Note amount of liability coverage in comments; price minimum liability coverage if it varies. Assume concrete structure. Survey: Major carrier.

Renter Insurance Middle. One-year of renters insurance (HO-4) coverage for $30,000 of contents. In the COLA areas policy must cover hurricane, earthquake, and other catastrophic damage. Note amount of liability coverage in comments; price minimum liability coverage if it varies. Assume concrete structure. Survey: Major carrier.

Renter Insurance Upper. One-year of renters insurance (HO-4) coverage for $35,000 of contents. In the COLA areas policy must cover hurricane, earthquake, and other catastrophic damage. Note amount of liability coverage in comments; price minimum liability coverage if it varies. Assume concrete structure. Survey: Major carrier.

Rice, Long Grain. Three-pound box of long grain enriched white rice. Do not price instant rice. Survey: Uncle Ben's Converted Long Grain.

Salt. Twenty-six-ounce box of iodized salt. Sterling is an equivalent brand. Survey: Morton.

Shampoo. Fifteen-ounce bottle for normal hair. Survey: VO5.

Sheet, 200 Count (Wal-Mart). Sheet, 200 thread count cotton or cotton polyester blend. QUEEN size fitted or flat sheet, not a set. Survey: Mainstays.

Sheet, 300 Count (Target/FM). Sheet, 300 thread count cotton or cotton polyester blend. QUEEN size fitted or flat sheet, not a set. Survey: Fieldcrest Classic or HD Designs.

Shop Rate (Chevrolet). Hourly shop rate for a mechanic at a Chevrolet dealership. Survey: Chevy dealer shop rate.

Shop Rate (Ford). Hourly shop rate for a mechanic at a Ford dealership. Survey: Ford dealer shop Rate.

Shop Rate (Subaru). Hourly shop rate for a mechanic at a Subaru dealership. Survey: Subaru dealer shop rate.

Sirloin Steak, Boneless. Price per pound, fresh (not frozen or previously frozen) boneless beef top sirloin steak. Price USDA Select or un-graded if available. If not available, note USDA grade in comments. Use average size package; i.e., not family-pack, value-pack, super-saver pack, or equivalent. Survey: Store brand.

Skiing. Lift ticket for downhill skiing. Day pass (8 hours) for Saturday during peak season, non-holiday. Survey: Skiing (lift ticket).

Sliced Bacon. Sixteen-ounce package USDA grade, regular slice. Survey: Oscar Mayer.

Snack Cake. One 10-count box of cream-filled type cake desserts. Survey: Hostess Twinkies.

Snowblower. 2006, two stage, 6.5 HP, 196 CC, 24” clearing, rubber track driven snowblower with 210 degree adjustable discharge chute. Include any set-up or other applicable fees. Survey: Honda Snowblower (HS724TA).

Soft Drink. Twelve-pack of cola flavored soda, 12 ounce cans. Survey: Coca-Cola 12-pack (cans).

Soy Milk. One-half-gallon of refrigerated vanilla soy milk. Survey: White Wave Silk Soy.

Spaghetti. Sixteen-ounce box or bag of pasta spaghetti. Survey: Barilla.

Stamp. Price of mailing a 1-ounce first class letter. Survey: USPS.

Stand Mixer (JCP/Sears). Artisan stand mixer with 325-watt motor, tilt-up head, 10 speeds, and 5-quart stainless steel bowl. Includes pouring shield. Last two characters of model number denote color. Survey: KitchenAid 325-watt (KSM150PSWW).

Stand Mixer (Target/FM). Artisan stand mixer with 325-watt motor, tilt-up head, 10 speeds, and 5-quart stainless steel bowl. Last two characters of model number denote color. Survey: KitchenAid 325-watt (KSM150).

Stand Mixer (Wal-Mart). Sunbeam Heritage Series Mixmaster stand mixer, 350 watts of power, 12 speeds, die-cast, all metal construction, two stainless steel mixing bowls (4.6-quart and 2.2-quart), stainless steel beaters and dough hooks. Survey: Sunbeam Heritage (2350).

Subaru Legacy. Purchase price of a 2006 Subaru Legacy I Limited sedan, AWD, 2.5 liter, 16 valve, 4 cylinder, 4 door, 4-speed automatic transmission. Please note the price of any special option packages. (Use auto dealer worksheet.) Survey: 2006 Subaru Legacy I Limited.

Subaru Lic., Reg., Taxes, and Insp. License, registration, periodic taxes (e.g., road or personal property tax, but NOT one-time taxes such as sales tax). Survey: Specified Subaru.

Sugar. Five-pound bag of granulated cane or beet name brand sugar. Do not price superfine. Survey: National brand, e.g. Domino.

Tax Preparation. Flat rate for preparing individual tax Federal 1040 (long form), Schedule A, plus State or local equivalents. (Note: Some areas only have local income taxes.) Note number of forms in comments. Assume typical itemized deductions. If only hourly rate available, obtain estimate of the time necessary to prepare forms, prorate, and report as a substitute. Survey: H&R Block type.

Taxi Fare. Cab fare, one way, from major airport to destination 5 miles away. Price fare for one passenger with two suitcases. In reference area, price rides from BWI for Maryland, Reagan National for the District of Columbia, and Dulles for Virginia. Survey: Taxi fare.

Telephone Service. Monthly price for unlimited local phone service. Exclude options such as call waiting, call forwarding or fees for equipment rental. Itemize taxes and fees and add to price. Survey: Local provider.

Television 14″ (Wal-Mart). Flat-screen, 14-inch, stereo, color TV, with remote. Note: Model numbers may vary slightly. Survey: RCA 14” TV (14F512T).

Television 26″ HDTV (Wal-Mart). Twenty-six-inch, widescreen, LCD, high definition TV with remote. Survey: Sharp 26″ HDTV—LD26SH3U.

Television 27″. Flat-screen, 27-inch, stereo, color TV with remote. Note: Model numbers may vary slightly by dealer. Survey: Sony 27″ TV (KV-27FS120).

Television 27″ (Target/FM). Flat-screen, 27-inch, stereo, color TV with remote. Note: Model numbers may vary slightly by dealer. Survey: Sony 27″ TV (KV-27FS120).

Tennis Balls (Target/FM). One can, three pressurized tennis balls designed for recreational play. Do not price premium type balls. Survey: Wilson Championship.

Tennis Balls (Wal-Mart). One can, three pressurized tennis balls designed for recreational play. Do not price premium type balls. Survey: Wilson Championship.

Tires, All Season (Chevy-1). Price of four tires (P245/75R16 Load Range SL, Svc Desc 109S) mounted on the vehicle, balanced, new stems, stud fee, and applicable excise and/or sales tax and disposal of old tires. Do not price road hazard insurance or lifetime valve stems. Survey: Goodyear Wrangler RT/S.

Tires, All Season (Chevy-2). Price of four tires (P245/75R16 Load Range SL, Svc Desc 109S) mounted on the vehicle, balanced, new stems, stud fee, and applicable excise and/or sales tax and disposal of old tires. Do not price road hazard insurance or lifetime valve stems. Survey: Toyo—Open Country.

Tires, All Season (Subaru-1). Price of four tires (P205/60R15 Service Description 91H) mounted on the vehicle, balanced, new stems, stud fee, and applicable excise and/or sales tax and disposal of old tires. Do not price road hazard insurance or lifetime valve stems. Survey: Goodyear Eagle LS.

Tires, All Season (Subaru-2). Price of four tires (P205/60R15 Service Description 91H) mounted on the vehicle, balanced, new stems, stud fee, and applicable excise and/or sales tax and disposal of old tires. Do not price road hazard insurance or lifetime valve stems. Survey: Toyo—Eclipse.

Tires, Average (Chevy). Average price by area of four tires for surveyed Chevy. In Alaska, this is average of all season and winter tires. In DC it is average of all season tires. See Tires Worksheet. Survey: Tires, Average (Chevy).

Tires, Average (Subaru). Average price by area of four tires for surveyed Chevy. In Alaska, this is average of all season and winter tires. In DC it is average of all season tires. See Tires Worksheet. Survey: Tires, Average (Subaru).

Tires, Snow (Chevy—Fairbanks). The cost of four tires (P245/75R16 Service Description 109Q) mounted on the vehicle, balanced, new stems, stud fee, and applicable excise and or sales tax and disposal cost of old tires. Do not price road hazard insurance or lifetime valve stems. Survey: Bridgestone Blizzak DM-Z3.

Tires, Snow (Subaru—Fairbanks). The cost of four tires (R205/60R15 Service Description 91H) mounted on the vehicle, balanced, new stems, stud fee, and applicable excise and or sales tax and disposal cost of old tires. Do not price road hazard insurance or lifetime valve stems. Survey: Bridgestone Blizzak WS-50.

Tires, Studded Snow (Chevy). Price of four tires (P245/75R16 Service Description 109Q) mounted on the vehicle, balanced, new stems, stud fee, and applicable excise and/or sales tax and disposal of old tires. Do not price road hazard insurance or lifetime valve stems. Survey: Bridgestone Dayton Winterforce.

Tires, Studded Snow (Subaru). Price of four tires (R205/60R15 Service Description 91H) mounted on the vehicle, balanced, new stems, stud fee, and applicable excise and/or sales tax and disposal of old tires. Do not price road hazard insurance or lifetime valve stems. Survey: Bridgestone Dayton Winterforce.

Toilet Tissue. Twelve-count single-roll type toilet tissue. Survey: Angel Soft.

Tomatoes. Price per pound of medium-size tomatoes. Do not price organic, hydro, plum, or extra fancy tomatoes. Survey: Store brand.

Top Round Steak, Boneless. Price per pound, fresh (not frozen or previously frozen) boneless beef top round steak. Price USDA Select or ungraded if available. If not available, note USDA grade in comments. Use average size package; i.e., not family-pack, value-pack, super-saver pack, or equivalent. Survey: Store brand.

Truck Driver (Hourly Wage). Local hourly rate for truck driver light. BLS code 53-3033. Try to obtain from the local department of labor. Survey: Government Wage Data.

Utility Model Output. Total annual energy costs (electricity, gas, and oil) from OPM's utility function model, including all taxes and surcharges, etc. Survey: Utility Model Output.

Vacuum, Electric Broom (Wal-Mart). Electric bagless upright vacuum cleaner with 3 amp motor. Has telescopic handle, revolving brushroll. Survey: Eureka Boss SuperLite 405A or 405B.

Vacuum, Hand-Held 7.2 V (Wal-Mart). Cordless, hand-vac, 7.2 volt wet and dry. Survey: Black & Decker DustBuster—CHV7250.

Vacuum, Hand-Held 9.6 V (Target/FM). Cordless, hand-vac, 9.6 volt rechargeable battery, on-board tools and wall-mount charging base, 3-stage filtration for clean air exhaust. Survey: Black & Decker DustBuster (CHV9600).

Vacuum, Upright (Target/FM). Electric 12-amp bagless upright vacuum cleaner with a 15” path, 3-year, HEPA filter; pet-hair cleaning tool, control switch for carpeting and hard floors. Survey: Hoover Savvy—U8174-900.

Veterinary Services. Routine annual examination for a small dog (approximately 25 to 30 pounds). Do not price booster shots, medication, or other extras such as nail clipping and ear cleaning. Survey: Vet services.

Video Rental (DVD). Minimum rental rate to rent a DVD on a Saturday night. Survey: Harry Potter and the Goblet of Fire.

Wash (Front Load). Regular size (double load) wash using a front loading washing machine. Approximate capacity: 2.8 cubic foot or 18 pounds. Exclude cost of drying. Survey: Coin laundry.

Washing Machine—Front Load-1. Front load washer, 3.8 cubic feet, 13 wash, 5 rinse cycles, electronic controls. Survey: Whirlpool Duet—GHW9400PW.

Washing Machine—Front Load-2. Front load washer, 3.3 cubic feet, with electronic controls. Maytag model MAH5500WW is an equivalent. Survey: Maytag Neptune—MAH55FLBWW.

Washing Machine—Front Load (Sears). Front load washer, 3.8 cubic feet, 12 cycles and options, electronic controls. Survey: Kenmore Elite—45087.

Washing Machine—Top Load. Top load washer, 3.2 cubic feet, 12 wash, 5 rinse cycles, manual controls. Survey: Whirlpool—LSQ9549PW.

Washing Machine—Top Load (HD). Top load washer, 3.2 cubic feet, 15 cycles, manual controls. Survey: GE—WHDSR315DWW.

Washing Machine—Top Load (Sears). Top load washer, 3.2 cubic feet, 22 cycles and options, manual controls. Survey: Kenmore Elite—16922.

Water Bill. Average monthly consumption in gallons and price (e.g., price for first_gallons; price for over_gallons) for water and sewer. Include related charges such as customer service charge. Survey: Water bill.

Will Preparation. Hourly rate for a lawyer (not a paralegal) to prepare a simple will. If only flat rate available, record flat rate amount and divide by average amount of hours it would take to prepare will. Note in comments. Survey: Legal service.

Wine At Home. Chardonnay wine, 750 milliliter bottle, any vintage. Survey: Turning Leaf.

Wine Away (Casual). One glass of the least expensive house white wine. Check sales tax and include in price. Survey: House wine.

Wine Away (FD-type). One glass of the least expensive house white wine. Check sales tax and include in price. Survey: House wine.

Woman's Athletic Shoe (Shoe Store). Woman's walking shoe, soft leather upper. Full-length Phylon midsole with low-pressure Air-Sole units in heel and forefoot. Composition rubber outsole. Survey: Reebok Classic.

Woman's Blouse (JCP/Sears). Short sleeve, 100 percent polyester, button front blouse with minimum or no trim. Washable. With or without shoulder pads. Price regular size, not Woman's or Plus sizes. Note brand in comments. Survey: Laura Scott (Sears) Liz Baker (JCP).

Woman's Blue Jeans (JCP/Sears). Blue jeans. Machine washable, five pocket with zipper fly, loose fit, straight leg or tapered, no elastic waist. Price regular size, not Woman's or Plus sizes. Survey: Levis 550 Relaxed Fit.

Woman's Boot (LL Bean). Pull-on insulated boot, waterproof nubuck-and-suede upper, lined with Thinsulate, fleece interior. Price by catalog and include sales tax and shipping and handling. Survey: Wildcat Boots, Pull-On—TA48980.

Woman's Casual Khakis (JCP/Sears). Woman's casual khakis, any color, flat-front or pleated pants, machine washable, all cotton. Price regular size, not Woman's or Plus sizes. Survey: Lands End.

Woman's Cut and Style. Wash, cut, and styled blow dry for medium length hair. Exclude curling iron if extra. Price hair salons in major department stores and malls, if available. Survey: Medium length hair.

Woman's Dress (JCP/Sears). Patterned, rayon, dry clean only, misses print dress, size 4-16. Simple lines, no lace or special stitching. Survey: Covington (Sears) Studio 1 (JCP).

Woman's Dress (HA). Stretch poplin dress, sleeveless, raised waist seam and slight A-line, plus back zipper. Cotton/spandex print. Price by catalog and include sales tax and shipping and handling. Survey: Circles On Black number CD30922.

Woman's Parka (Cabelas). Woman's GORE-TEX parka, regular size. Price by catalog and include sales tax and shipping and handling. Survey: Castlewood Parka (XF-912130).

Woman's Pump Shoes (JCP). Plain pump (not open toed or open back style) with tapered heel, approximately 1.5 to 2 inches. Heel color matches shoe color (e.g., not stacked or wooden type). Shoe has leather uppers. Rest is man-made materials. No extra ornamentation. Survey: 925.

Woman's Pump Shoes (Sears). Plain pump (not open toed or open back style) with tapered heel, approximately 1.5 to 2 inches. Heel color matches shoe color (e.g., not stacked or wooden type). Shoe has leather uppers. Rest is man-made materials. No extra ornamentation. Survey: Laura Scott.

Woman's Sweater (JCP/Sears). Short sleeve sweater, no buttons or collar, 100 percent cotton or cotton blend. Price regular size, not Woman's or Plus sizes. Survey: Sag Harbor.

Woman's Wallet (JCP/Sears). Clutch, checkbook style wallet, split-grain cowhide leather. Do not price eel skin, snake skin, or other varieties. Survey: Buxton, Liz Claiborne.

Appendix 4—COLA Rental Survey Data Collection Elements

Data element | Description of data
Survey Year * | Year of the survey.
Comparable identification code * | A five character code that is unique to each comparable and structured as follows: Position 1 is the letter corresponding to the area in which the comparable is located, i.e., A, B, C, or D. Position 2 is the letter corresponding to the location as identified in Attachment A in which the comparable is located. Position 3 is the letter corresponding to the class of housing shown in Section A.3.5.1. Positions 4 and 5 is a sequence numbers 01 through 99 that identifies the order in which that comparable was collected relative to other comparables of the same class in the same location and area.
Comparable's address * | Complete location address of the comparable, including ZIP code, NOT Post Office Box, and name of multi-family complex (as applicable).
How initially identified * | Internet, broker, drive-by, newspaper, published rental listing (e.g., as often found in supermarkets), other.
Person providing information, if applicable | Name and title of person providing information about the comparable. Examples of title: agent, landlord, tenant.
Address, etc. of person providing information | Complete mailing address, phone number(s), and email address, as appropriate, of person providing information about the comparable.
Community name, if applicable | Name of community in which comparable is located.
Year built | Year built.
Finished space * | Total sq. ft. of finished space (i.e., living-area), including finished basements.
Basement * | Finished, Unfinished, None (report as finished if more than 50 percent of space finished.)
Bedrooms * | Number of bedrooms.
Bathrooms * | Number of bathrooms (½ bath is toilet and sink; full bath is toilet, sink, shower, and/or tub). Record ¾ baths (e.g., toilet, sink, and shower only) as full baths.
Arctic entrance * | Yes/no.
Balcony * | Covered, uncovered, none.
Deck * | Covered, uncovered, none.
Patio * | Covered, uncovered, none.
External condition * | Above average, average, below average. Above average condition means the unit is new or like new condition (e.g., recently remodeled, refurbished, or restored). Average condition means the unit shows signs of age but is in good repair (e.g., the paint is not peeling, there are no broken windows, sagging fences, or missing gutters; the yard is maintained; and there are no disabled cars, appliances, or other trash around the property). Below average condition means the unit is habitable but needs repair and the property needs maintenance and/or trash removal.
Neighborhood condition * | Desirable, average, undesirable. A desirable neighborhood generally has above average and average homes. Commercial services are separate (e.g., clustered in strip malls or business parks). There are parks and/or open public spaces. Roads and parks are well-maintained and clean. An average neighborhood generally has homes in average condition with a balance of homes in above average and below average condition. Commercial services are separate. Roads and parks are in good condition but may need cleaning or maintenance. An undesirable neighborhood generally has homes in poor condition. Commercial units may be intermingled with residential units. Roads are often poorly maintained and have litter. There are few parks and/or parks are poorly maintained.
Central air conditioning * | Yes/no. Central air is a ducted system designed to cool all or essentially all of a house or apartment.
Multi-room air conditioning * | Yes/no. If yes and if available, report number of multi-room units. Multi-room air conditioning is a non-window unit designed to cool more than one room but not all of a house or apartment.
Window air conditioning * | Yes/no. If yes and if available, report number of window-type air conditioning units.
Garage * | Triple (or more), double, single, none. If landlord charges extra fee for garage parking, code as “none,” and report monthly parking fee separately. Do not include in monthly rent. Explain parking fees in comments.
Heated Garage * | Yes/no.
Carport * | Yes/no. If landlord charges extra fee for carport parking, code as “no,” and report monthly parking fee separately. Do not include in monthly rent. Explain parking fees in comments.
Reserved parking | Yes/no. If landlord charges extra fee for parking, code as “no,” and report monthly parking fee separately. Do not include in monthly rent. Explain parking fees in comments.
Security * | Yes/no for each of the following: Gated community, guard, alarm system, building access control.
Type of unit * | Type of unit. (See Section A.3.5.2.)
Number of floors (F, G, and H) * | Number of floors in complex (for Types of Unit F, G, and H).
Elevator (F, G, and H) | Yes/no in complex (for Types of Unit F, G, and H only).
Lot size * | Approximate square footage (detached single family units only)
Furnishings provided by landlord * | Yes/no.
Appliances provided by landlord * | Yes/no for each of the following: Refrigerator, range, oven, dishwasher, clothes washer, clothes dryer, and/or freezer.
Services paid by landlord * | Yes/no for each of the following: Water, sewer (includes septic), garbage collection, lawn care, cable television, satellite dish, electricity, heating fuel, firewood, snow removal.
Water source | Public, well, cistern, none.
Sewer | Public, septic, none.
Fireplace | Yes/no.
Complementary recreation facilities * | Yes/no for each of the following: Complementary (i.e., free) swimming pools, club houses, tennis courts, or other significant recreational facilities.
Pets | Yes/no. Yes, if dogs, cats, or both allowed; else no. If extra monthly fee, code as “no” and report monthly pet fee separately. Do not include in monthly rent. If annual fee, pro-rate to monthly and report as described. If pet fee is an additional deposit, do not report. Explain monthly/annual pet fees in comments.
Exceptional view * | Yes/no. A view of a park, ocean, mountain, valley, golf course, etc., that is unusually beautiful for the area and may increase the rental value of the property. [Note: Properties with direct access to such an amenity are not comparables and must not be surveyed.]
Rent * | Rental or lease amount per month. Do not include deposits or additional fees reported separately, e.g., parking, homeowner association, and pet fees.
Date of listing * | Date associated with rental rate reported above.
Other fees and charges * | Additional periodic fees or charges that the tenant pays separately, e.g., condo fees if paid separately. If annual fee, pro-rate to monthly. Do not report deposits, first/last month's rent, utilities, tenant's insurance, or discretionary fees (e.g., cable TV, community pool membership).
Geographic location * | Latitude and longitude of the unit accurate to within 7 meters. Latitude and longitude to be recorded in separate fields as decimal degrees (e.g., 30.5012 and not as degrees, minutes and seconds).
State or equivalent * | Two digit State Federal Information Processing Standards (FIPS) code (e.g., Alaska = 02)
County or equivalent * | Three digit County FIPS code (e.g., Anchorage = 020)
Census tract code * | Six digit census tract code. Note: It will be necessary to pad 4 digit census tract codes with trailing zeros (e.g., 0061 becomes 006100) and to remove the decimal from census tract codes that have a decimal (e.g., 0063.02 becomes 006302).
Comment | Additional information that helps clarify above data elements as they apply to the comparable.
* Required.

Appendix 5—Utility Usage and Calculations—2006 Energy Requirements and Prices

Table A5-1.—Anchorage
| Electric heat: KHW | Electric heat: Cost | Electric heat: Therms | Electric heat: Cost | Gas heat: KWH ¹ | Gas heat: Cost | Gas heat: Total cost
Jan '06 | 6,535 | $729.81 | 245 | $159.12 | 467 | $59.36 | $218.48
Feb | 5,645 | 632.28 | 211 | 138.29 | 419 | 53.88 | 192.17
Mar | 5,894 | 659.57 | 220 | 143.80 | 457 | 58.22 | 202.02
Apr '05 | 5,334 | 483.99 | 199 | 110.16 | 436 | 52.75 | 162.91
May | 4,957 | 452.48 | 184 | 102.46 | 442 | 53.39 | 155.86
Jun | 3,441 | 325.76 | 125 | 72.19 | 406 | 49.54 | 121.73
Jul | 2,166 | 239.72 | 76 | 47.44 | 401 | 49.78 | 97.22
Aug | 4,022 | 433.39 | 148 | 83.83 | 425 | 52.40 | 136.23
Sep | 5,099 | 545.77 | 190 | 105.06 | 430 | 52.94 | 158.00
Oct | 5,778 | 614.43 | 216 | 118.20 | 457 | 55.70 | 173.90
Nov | 6,099 | 647.80 | 228 | 124.26 | 446 | 54.50 | 178.77
Dec | 6,205 | 680.68 | 233 | 126.79 | 456 | 55.59 | 182.38
Totals | 61,175 |  | 2,275 |  | 5,242
Annual Cost |  | $6,445.68 |  | $1,331.60 |  | $648.06 | $1,979.66
Relative Usage |  | 12.44% |  |  |  |  | 87.56%
Weighted Avg Cost ² |  | $801.84 |  |  |  |  | $1,733.39
Total Energy Utility Cost (Sum the weighted average cost of Electric Heat + Gas Heat) | $2,535.23
¹ KWH required for lighting, appliances, and furnace. Model used gas for stove and oven with gas heat.
² Annual cost times relative usage.

Table A5-2.—Fairbanks
| Electric heat: KHW | Electric heat: Cost | Oil heat: Gallons | Oil heat: Cost | Oil heat: KWH ¹ | Oil heat: Cost | Oil heat: Total cost
Jan '06 | 8,563 | $1,067.63 | 230 | $544.72 | 1,211 | $163.86 | $708.58
Feb | 7,437 | 929.21 | 198 | 468.93 | 1,079 | 147.64 | 616.57
Mar | 7,723 | 1,023.72 | 204 | 483.14 | 1,174 | 168.34 | 651.48
Apr '05 | 6,743 | 714.88 | 175 | 414.46 | 1,122 | 131.46 | 545.91
May | 4,922 | 525.87 | 119 | 281.83 | 1,123 | 131.56 | 413.39
Jun | 1,856 | 232.39 | 27 | 63.95 | 1,004 | 132.60 | 196.54
Jul | 1,835 | 230.00 | 24 | 56.84 | 1,053 | 138.37 | 195.21
Aug | 4,465 | 538.15 | 105 | 248.68 | 1,094 | 143.18 | 391.86
Sep | 6,431 | 819.85 | 166 | 393.14 | 1,112 | 154.17 | 547.31
Oct | 7,343 | 933.98 | 192 | 454.72 | 1,183 | 163.05 | 617.77
Nov | 7,776 | 988.17 | 207 | 490.25 | 1,144 | 158.17 | 648.42
Dec | 8,375 | 1,063.14 | 225 | 532.88 | 1,168 | 161.18 | 694.05
Totals | 73,469 |  | 1,872 |  | 13,467
Annual Cost |  | $9,066.99 |  | $4,433.52 |  | $1,793.58 | $6,227.10
Relative Usage |  | 9.09% |  |  |  |  | 90.91%
Weighted Avg Cost ² |  | $824.19 |  |  |  |  | $5,661.06
Total Energy Utility Cost (Sum the weighted average cost of Electric Heat + Oil Heat) | $6,485.25
¹ KWH required for lighting, appliances, and furnace. Model used gas for stove and oven with gas heat.
² Annual cost times relative usage.

Table A5-3.—Juneau
| Electric heat: KHW | Electric heat: Cost | Oil heat: Gallons | Oil heat: Cost | Oil heat: KWH ¹ | Oil heat: Cost | Oil heat: Total cost
Jan '06 | 5,190 | $518.35 | 128 | $370.50 | 1,149 | $121.98 | $492.48
Feb | 4,516 | 452.24 | 111 | 321.29 | 1,024 | 109.72 | 431.01
Mar | 4,840 | 484.02 | 118 | 341.55 | 1,119 | 119.04 | 460.59
Apr '05 | 4,418 | 437.13 | 106 | 306.82 | 1,076 | 113.21 | 420.03
May | 4,064 | 402.82 | 94 | 272.08 | 1,106 | 116.12 | 388.21
Jun | 3,247 | 267.72 | 70 | 202.62 | 1,031 | 91.10 | 293.71
Jul | 3,373 | 274.00 | 73 | 211.30 | 1,083 | 94.03 | 305.33
Aug | 3,700 | 299.69 | 83 | 240.24 | 1,073 | 93.25 | 333.49
Sep | 4,287 | 345.82 | 102 | 295.24 | 1,069 | 92.93 | 388.17
Oct | 4,698 | 393.28 | 113 | 327.08 | 1,132 | 101.81 | 428.89
Nov | 4,704 | 470.68 | 115 | 332.87 | 1,085 | 115.71 | 448.57
Dec | 5,026 | 502.27 | 124 | 358.92 | 1,105 | 117.67 | 476.59
Totals | 52,063 |  | 1,237 |  | 13,052
Annual Cost |  | $4,848.03 |  | $3580.50 |  | $1,286.58 | $4,867.08
Relative Usage |  | 24.04% |  |  |  |  | 75.96%
Weighted Avg Cost ² |  | $1,165.47 |  |  |  |  | $3,697.03
Total Energy Utility Cost (Sum the weighted average cost of Electric Heat + Oil Heat) | $4,862.50
¹ KWH required for lighting, appliances, and furnace. Model used gas for stove and oven with gas heat.
² Annual cost times relative usage.

Table A5-4.—Washington, DC, Area
Electric heat: Month | Electric heat: KWH | Electric heat: Cost | Gas heat: Therms | Gas heat: Cost | Gas heat: KHW¹ | Gas heat: Cost | Gas heat: Total cost | Oil heat: Gallons | Oil heat: Cost | Oil heat: KHW¹ | Oil heat: Cost | Oil heat: Total cost
Jan '06 | 3,326 | $281.63 | 126 | $244.86 | 362 | $36.15 | $281.00 | 72 | $170.33 | 1,007 | $92.76 | $263.09
Feb | 2,688 | 225.61 | 101 | 188.94 | 320 | 32.04 | 220.98 | 56 | 132.48 | 891 | 81.43 | 213.91
Mar | 1,812 | 155.25 | 68 | 115.27 | 322 | 32.19 | 147.46 | 27 | 63.87 | 938 | 85.15 | 149.03
Apr '05 | 966 | 86.07 | 34 | 55.52 | 316 | 31.24 | 86.76 | 2 | 4.73 | 909 | 81.55 | 86.28
May | 1,170 | 102.15 | 34 | 56.95 | 544 | 50.78 | 107.73 |  | 0.00 | 1,166 | 101.84 | 101.84
Jun | 1,377 | 135.27 | 32 | 51.52 | 784 | 78.36 | 129.88 |  | 0.00 | 1,369 | 134.54 | 134.54
Jul | 1,648 | 161.82 | 34 | 56.71 | 1,022 | 101.55 | 158.26 |  | 0.00 | 1,636 | 160.67 | 160.67
Aug | 1,566 | 153.93 | 33 | 55.60 | 957 | 95.29 | 150.89 |  | 0.00 | 1,555 | 152.87 | 152.87
Sep | 1,246 | 125.65 | 32 | 58.39 | 653 | 67.71 | 126.10 |  | 0.00 | 1,241 | 125.17 | 125.17
Oct | 975 | 97.68 | 35 | 73.70 | 315 | 34.38 | 108.08 | 1 | 2.37 | 941 | 94.71 | 97.07
Nov | 1,797 | 155.15 | 67 | 130.15 | 311 | 31.44 | 161.60 | 28 | 66.24 | 911 | 83.55 | 149.79
Dec | 2,797 | 237.11 | 106 | 184.27 | 344 | 34.42 | 218.69 | 58 | 137.21 | 952 | 87.27 | 224.48
Totals | 21,368 |  | 702 |  | 6,250 |  |  | 244 |  | 13,516 |  |
Annual Cost |  | $1,917.33 |  | $1,271.90 |  | $625.54 | $1,897.44 |  | $577.22 |  | $1,281.50 | $1,858.73
Relative Usage |  | 33.20% |  |  |  |  | 60.74% |  |  |  |  | 6.06%
Weighted Avg Cost ² |  | 636.55 |  |  |  |  | $1,152.51 |  |  |  |  | $112.64
Total Energy Utility Cost (sum of the weighted average cost of Electric + Gas + Oil Heat) | $1,901.70
¹ KWH required for lighting, appliances, and furnace. Model used gas for stove and oven with gas heat.
² Annual cost times relative usage.

Appendix 6—Hedonic Rental Data Equations and Results

SAS Regression Program Using Proc Freq

data temp;

set OPM.OPMSurvey2005_2006dc;

if use=`Yes';

if unittype=`I' then delete;

survey_area=`XX';

location=substr(compnumber,1,1);

if location=`A' then survey_ area=`JU';

if location=`B' then survey_ area=`FB';

if location=`C' then survey_area=`AN';

if location=`G' then survey_area=`WA';

*Q1 yrbuilt;

survey_yr=0;

if surveyyr=2006 then survey_yr=1;

if surveyyr=2006 then do;

age=2006-yrbuilt;end;

if surveyyr=2005 then do;

age=2005-yrbuilt;end;

agesq = age**2;

baths=fullbaths+halfbaths*.5;

hasexceptionalview=0;

if excview = `Y' then hasexceptionalview = 1;

hasgarage = 0;

if garage in (`A', `B', `C') and parkfees=0 then hasgarage = 1;

hasmicrowave=0;

if microwave=`Y' then hasmicrowave=1;

haselevator=0;

if elevator=`Y' then haselevator=1;

InOthPlex = 0;

if unittype in (`E',`H',`B',`C') then InOthPlex = 1;

HiRz = 0;

if unittype =`G' then HiRz= 1;

GdnWalk = 0;

if unittype =`F' then GdnWalk= 1;

TownRow = 0;

if unittype = `D' then TownRow = 1;

Detached = 0;

*if unittype = `A' then Detached = 1;

*omitting the above line makes Detached the base condition;

SqftXInOthPlex = 0;

if unittype in (`E',`H',`B',`C') then SqftXInOthPlex = sqfootage;

SqftXHiRz= 0;

if unittype = `G' then SqftXHiRz= sqfootage;

SqftXGdnWalk= 0;

if unittype = `F' then SqftXGdnWalk= sqfootage;

SqftXTownRow = 0;

if unittype = `D' then SqftXTownRow = sqfootage;

SqftXDetached = 0;

if unittype = `A' then SqftXDetached = sqfootage;

hasfireplace = 0;

if fireplace=`Y' then hasfireplace=1;

Anchorage = 0;

if survey_ area=`AN' then Anchorage = 1;

Fairbanks = 0;

if survey_ area=`FB' then Fairbanks = 1;

Juneau = 0;

if survey_area=`JU' then Juneau = 1;

Wash_DC = 0;

*** if survey_area=`WA' then Wash_DC=1—Omitting this makes DC the base area;

pctallbasq=pctallba_**2;

sqsqspace=sqfootage**2;

lrent=log(rent+hoafees+otherfees);

label inothplex=`In-home, Other, and Plexed Units';

label hirz=`High Rise Units';

label gdnwalk=`Garden/Walk-up Units';

label townrow=`Town and Row House Units';

label sqftXinothplex=`Sq Ft—In-home, Other, and Plexed Units';

label sqftXhirz=`Sq Ft—High Rise Units';

label sqftXgdnwalk=`Sq Ft—Garden/Walk-up Units';

label sqftXtownrow=`Sq Ft—Town and Row House Units';

label sqftXdetached=`Sq Ft—Town and Row House Units';

label sqsqspace=`Square Footage Squared';

label pctallba_=`Census Percent of BAs';

label pctallbasq=`Census Percent of BAs Squared';

label pctschoolage=`Census Percent of School-Age Children';

label surveyyr=`Survey Year (2005 and 2006 DC Data Used)';

label Anchorage=`Anchorage Survey Area';

label Fairbanks=`Fairbanks Survey Area';

label Juneau=`Juneau Survey Area';

label haselevator=`Has an Elevator';

label hasexceptionalview=`Has an Exceptional View';

label hasgarage=`Has a Garage';

label hasfireplace=`Has a Fireplace';

label hasmicrowave=`Has a Microwave';

label bedrooms=`Bedrooms';

label baths=`Baths';

label age=`Age of Unit';

label agesq=`Age of Unit Squared';

run;

PROC REG DATA=temp;

MODEL lrent = TownRow HiRz GdnWalk InOthPlex SqftXTownRow SqftXHiRz

SqftXGdnWalk SqftXInOthPlex SqftXDetached sqsqspace age agesq baths bedrooms haselevator hasexceptionalview hasgarage hasfireplace hasmicrowave pctallbasq pctallba_ PctSchoolAge survey_yr Anchorage Fairbanks Juneau;

TITLE ‘2006 Alaskan Rental Data’;

Title2 ‘Rental Analyses, Federal Register Model‘;

RUN;

2006 Alaska Rental Data—Rental Analyses, Federal Register Model
[The REG Procedure Model: MODEL1 Dependent Variable: lrent]
Number of Observations Read | 2762
Number of Observations Used | 2762

Analysis of variance: Source | Analysis of variance: DF | Analysis of variance: Sum of squares | Analysis of variance: Mean square | Analysis of variance: F value | Analysis of variance: Pr > F
Model | 26 | 261.69702 | 10.06527 | 463.34 | <.0001
Error | 2735 | 59.41275 | 0.02172 |  |
Corrected Total | 2761 | 321.10977 |  |  |

Root MSE | 0.14739 | R-Square | 0.8150
Dependent Mean | 7.26529 | Adj R-Sq | 0.8132
Coeff Var | 2.02865

Parameter estimates: Variable | Parameter estimates: Label | Parameter estimates: DF | Parameter estimates: Parameter estimate | Parameter estimates: Standard error | Parameter estimates: t Value | Parameter estimates: Pr > [t]
Intercept | Intercept | 1 | 6.91748 | 0.04781 | 144.68 | <.0001
TownRow | Town and Row House Units | 1 | 0.05988 | 0.03118 | 1.92 | 0.0549
HiRz | High Rise Units | 1 | −0.32269 | 0.03943 | −8.18 | <.0001
GdnWalk | Garden/Walk-up Units | 1 | −0.33769 | 0.04175 | −8.09 | <.0001
InOthPlex | In-home, Other, and Plexed Units | 1 | −0.17830 | 0.03751 | −4.75 | <.0001
SqftXTownRow | Sq Ft—Town and Row House Units | 1 | 0.00019167 | 0.00004596 | 4.17 | <.0001
SqftXHiRz | Sq Ft—High Rise Units | 1 | 0.00051342 | 0.00004185 | 12.27 | <.0001
SqftXGdnWalk | Sq Ft—Garden/Walk-up Units | 1 | 0.00050184 | 0.00004398 | 11.41 | <.0001
SqftXInOthPlex | Sq Ft—In-home, Other, and Plexed Units | 1 | 0.00037695 | 0.00004457 | 8.46 | <.0001
SqftXDetached | Sq Ft—Town and Row House Units | 1 | 0.00029074 | 0.00004964 | 5.86 | <.0001
Sqsqspace | Square Footage Squared | 1 | −5.24648E-8 | 1.300171E-8 | −4.04 | <.0001
Age | Age of Unit | 1 | −0.00678 | 0.00043407 | −15.62 | <.0001
Agesq | Age of Unit Squared | 1 | 0.00007692 | 0.00000500 | 15.38 | <.0001
Baths | Baths | 1 | 0.06173 | 0.00612 | 10.08 | <.0001
BEDROOMS | Bedrooms | 1 | 0.09049 | 0.00578 | 15.66 | <.0001
Haselevator | Has an Elevator | 1 | 0.05331 | 0.01452 | 3.67 | 0.0002
hasexceptionalview | Has an Exceptional View | 1 | 0.20177 | 0.03563 | 5.66 | <.0001
Hasgarage | Has a Garage | 1 | 0.08045 | 0.00891 | 9.03 | <.0001
Hasfireplace | Has a Fireplace | 1 | 0.02599 | 0.00647 | 4.01 | <.0001
hasmicrowave | Has a Microwave | 1 | 0.05537 | 0.00669 | 8.28 | <.0001
Pctallbasq | Census Percent of BAs Squared | 1 | 0.66016 | 0.07454 | 8.86 | <.0001
PCTAllBA_ | Census Percent of BAs | 1 | −0.24537 | 0.07048 | −3.48 | 0.0005
PctSchoolAge | Census Percent of School-Age Children | 1 | −0.86785 | 0.06980 | −12.43 | <.0001
survey_yr | Survey Year (2005 and 2006 DC Data Used) | 1 | 0.05995 | 0.00687 | 8.73 | <.0001
Anchorage | Anchorage Survey Area | 1 | −0.15375 | 0.01106 | −13.90 | <.0001
Fairbanks | Fairbanks Survey Area | 1 | −0.22251 | 0.01252 | −17.77 | <.0001
Juneau | Juneau Survey Area | 1 | −0.06585 | 0.01616 | −4.07 | <.0001

Appendix 7.—Final Living-Cost Results for Anchorage, Fairbanks, and Juneau, AK
Major expenditure group (MEG) | Primary expenditure group (PEG) | MEG weight (percent) | PEG weight (percent) | PEG index | MEG index
Anchorage
1. Food |  | 12.45 |  |  | 114.47
| Cereals and bakery products | 0.82 | 6.56 | 130.90 |
| Meats, poultry, fish, and eggs | 1.65 | 13.22 | 112.00 |
| Dairy products | 0.58 | 4.69 | 116.52 |
| Fruits and vegetables | 0.80 | 6.45 | 149.82 |
| Processed foods | 1.37 | 11.00 | 112.59 |
| Other food at home | 0.35 | 2.84 | 115.87 |
| Nonalcoholic beverages | 0.48 | 3.88 | 109.84 |
| Food away from home | 5.28 | 42.43 | 107.62 |
| Alcoholic beverages | 1.11 | 8.92 | 115.82 |
| PEG Total |  | 100.00 |  |
2. Shelter and Utilities |  | 36.91 |  |  | 90.97
| Shelter | 32.92 | 89.19 | 86.46 |
| Energy utilities | 3.35 | 9.07 | 133.31 |
| Water and other public services | 0.64 | 1.75 | 101.41 |
| PEG Total |  | 100.00 |  |
3. Household Furnishings and Supplies |  | 4.76 |  | 102.07 |
| Household operations | 1.21 | 25.37 | 100.13 |
| Housekeeping supplies | 1.08 | 22.63 | 103.40 |
| Textiles and area rugs | 0.28 | 5.91 | 98.07 |
| Furniture | 0.76 | 15.99 | 115.41 |
| Major appliances | 0.30 | 6.39 | 108.50 |
| Small appliances, misc. housewares | 0.22 | 4. 53 | 78.97 |
| Misc. household equipment | 0.91 | 19.19 | 96.53 |
| PEG Total |  | 100.00 |  |
4. Apparel and Services |  | 3.57 |  |  | 131.61
| Men and boys | 0.72 | 20.08 | 146.00 |
| Women and girls | 1.42 | 39.71 | 131.78 |
| Children under 2 | 0.11 | 3.13 | 106.95 |
| Footwear | 0.73 | 20.45 | 108.55 |
| Other apparel products and services | 0.59 | 16.63 | 146.81 |
| PEG Total |  | 100.00 |  |
5. Transportation |  | 15.19 |  |  | 108.74
| Motor vehicle costs | 7.75 | 51.01 | 98.35 |
| Gasoline and motor oil | 3.06 | 20.15 | 94.97 |
| Maintenance and repairs | 1.33 | 8.78 | 99.19 |
| Vehicle insurance | 2.02 | 13.28 | 129.52 |
| Public transportation | 1.03 | 6.78 | 199.44 |
| PEG Total |  | 100.00 |  |
6. Medical |  | 4.77 |  |  | 115.97
| Health insurance | 2.75 | 57.56 | 111.73 |
| Medical services | 1.15 | 24.18 | 127.90 |
| Drugs and medical supplies | 0.87 | 18.26 | 113.52 |
| PEG Total |  | 100.00 |  |
7. Recreation |  | 4.50 |  |  | 101.65
| Fees and admissions | 1.13 | 25.10 | 90.52 |
| Television, radios, sound equipment | 0.73 | 16.13 | 97.84 |
| Pets, toys, and playground equipment | 0.79 | 17.52 | 123.36 |
| Other entertainment supplies, etc | 0.46 | 10.28 | 95.32 |
| Personal care products | 0.63 | 13.92 | 112.08 |
| Personal care services | 0.49 | 10.97 | 92.73 |
| Reading | 0.27 | 6.08 | 98.04 |
| PEG Total |  | 100.00 |  |
8. Education and Communication |  | 4.59 |  |  | 113.94
| Education | 0.20 | 4.46 | 26.46 |
| Communications | 4.12 | 89.69 | 119.17 |
| Computers and computer services | 0.27 | 5.85 | 100.41 |
| PEG Total |  | 100.00 |  |
9. Miscellaneous |  | 13.26 |  |  | 102.32
| Tobacco products, etc | 0.39 | 2.94 | 154.82 |
| Miscellaneous | 1.47 | 11.09 | 106.35 |
| Personal insurance and pensions | 11.40 | 85.97 | 100.00 |
| PEG Total |  | 100.00 |  |
Overall Price Index | MEG Total | 100.00 |  |  | 102.81
Plus Adjustment Factor |  |  |  |  | 7.00
Index Plus Adjustment Factor |  |  |  |  | 109.81
Fairbanks
1. Food |  | 12.45 |  |  | 114.78
| Cereals and bakery products | 0.82 | 6.56 | 135.72 |
| Meats, poultry, fish, and eggs | 1.65 | 13.22 | 112.95 |
| Dairy products | 0.58 | 4.69 | 121.92 |
| Fruits and vegetables | 0.80 | 6.45 | 152.26 |
| Processed foods | 1.37 | 11.00 | 113.31 |
| Other food at home | 0.35 | 2.84 | 117.41 |
| Nonalcoholic beverages | 0.48 | 3.88 | 108.84 |
| Food away from home | 5.28 | 42.43 | 107.48 |
| Alcoholic beverages | 1.11 | 8.92 | 109.48 |
| PEG Total |  | 100.00 |  |
2. Shelter and Utilities |  | 36.91 |  |  | 106.89
| Shelter | 32.92 | 89.19 | 81.09 |
| Energy utilities | 3.35 | 9.07 | 341.02 |
| Water and other public services | 0.64 | 1.75 | 208.81 |
| PEG Total |  | 100.00 |  |
3. Household Furnishings and Supplies |  | 4.76 |  |  | 104.33
| Household operations | 1.21 | 25.37 | 96.50 |
| Housekeeping supplies | 1.08 | 22.63 | 105.88 |
| Textiles and area rugs | 0.28 | 5.91 | 96.17 |
| Furniture | 0.76 | 15.99 | 116.80 |
| Major appliances | 0.30 | 6.39 | 106.19 |
| Small appliances, misc. housewares | 0.22 | 4.53 | 113.14 |
| Misc. household equipment | 0.91 | 19.19 | 102.27 |
| PEG Total |  | 100.00 |  |
4. Apparel and Services |  | 3.57 |  |  | 131.52
| Men and boys | 0.72 | 20.08 | 141.97 |
| Women and girls | 1.42 | 39.71 | 132.49 |
| Children under 2 | 0.11 | 3.13 | 104.79 |
| Footwear | 0.73 | 20.45 | 107.35 |
| Other apparel products and services | 0.59 | 16.63 | 151.31 |
| PEG Total |  | 100.00 |  |
5. Transportation |  | 15.19 |  |  | 114.95
| Motor vehicle costs | 7.75 | 51.01 | 97.09 |
| Gasoline and motor oil | 3.06 | 20.15 | 95.74 |
| Maintenance and repairs | 1.33 | 8.78 | 101.50 |
| Vehicle insurance | 2.02 | 13.28 | 121.54 |
| Public transportation | 1.03 | 6.78 | 310.77 |
| PEG Total |  | 100.00 |  |
6. Medical |  | 4.77 |  |  | 115.40
| Health insurance | 2.75 | 57.56 | 108.26 |
| Medical services | 1.15 | 24.18 | 135.94 |
| Drugs and medical supplies | 0.87 | 18.26 | 110.71 |
| PEG Total |  | 100.00 |  |
7. Recreation |  | 4.50 |  |  | 105.91
| Fees and admissions | 1.13 | 25.10 | 102.90 |
| Television, radios, sound equipment | 0.73 | 16.13 | 101.39 |
| Pets, toys, and playground equipment | 0.79 | 17.52 | 123.33 |
| Other entertainment supplies, etc | 0.46 | 10.28 | 94.75 |
| Personal care products | 0.63 | 13.92 | 114.34 |
| Personal care services | 0.49 | 10.97 | 90.03 |
| Reading | 0.27 | 6.08 | 108.30 |
| PEG Total |  | 100.00 |  |
8. Education and Communication |  | 4.59 |  |  | 115.61
| Education | 0.20 | 4.46 | 13.02 |
| Communications | 4.12 | 89.69 | 121.71 |
| Computers and computer services | 0.27 | 5.85 | 100.41 |
| PEG Total |  | 100.00 |  |
9. Miscellaneous |  | 13.26 |  |  | 101.47
| Tobacco products, etc | 0.39 | 2.94 | 132.72 |
| Miscellaneous | 1.47 | 11.09 | 104.62 |
| Personal insurance and pensions | 11.40 | 85.97 | 100.00 |
| PEG Total |  | 100.00 |  |
Overall Price Index | MEG Total | 100.00 |  |  | 109.90
Plus Adjustment Factor |  |  |  |  | 9.00
Index Plus Adjustment Factor |  |  |  |  | 118.90
Juneau
1. Food |  | 12.45 |  |  | 118.71
| Cereals and bakery products | 0.82 | 6.56 | 131.89 |
| Meats, poultry, fish, and eggs | 1.65 | 13.22 | 108.55 |
| Dairy products | 0.58 | 4.69 | 134.52 |
| Fruits and vegetables | 0.80 | 6.45 | 139.55 |
| Processed foods | 1.37 | 11.00 | 122.85 |
| Other food at home | 0.35 | 2.84 | 115.62 |
| Nonalcoholic beverages | 0.48 | 3.88 | 122.89 |
| Food away from home | 5.28 | 42.43 | 114.75 |
| Alcoholic beverages | 1.11 | 8.92 | 113.54 |
| PEG Total |  | 100.00 |  |
2. Shelter and Utilities |  | 36.91 |  |  | 110.35
| Shelter | 32.92 | 89.19 | 94.63 |
| Energy utilities | 3.35 | 9.07 | 255.69 |
| Water and other public services | 0.64 | 1.75 | 158.57 |
| PEG Total |  | 100.00 |  |
3. Household Furnishings and Supplies |  | 4.76 |  |  | 104.62
| Household operations | 1.21 | 25.37 | 97.58 |
| Housekeeping supplies | 1.08 | 22.63 | 111.66 |
| Textiles and area rugs | 0.28 | 5.91 | 92.78 |
| Furniture | 0.76 | 15.99 | 114.01 |
| Major appliances | 0.30 | 6.39 | 119.29 |
| Small appliances, misc. housewares | 0.22 | 4.53 | 112.53 |
| Misc. household equipment | 0.91 | 19.19 | 94.69 |
| PEG Total |  | 100.00 |  |
4. Apparel and Services |  | 3.57 |  |  | 136.71
| Men and boys | 0.72 | 20.08 | 161.68 |
| Women and girls | 1.42 | 39.71 | 138.17 |
| Children under 2 | 0.11 | 3.13 | 111.47 |
| Footwear | 0.73 | 20.45 | 102.42 |
| Other apparel products and services | 0.59 | 16.63 | 150.03 |
| PEG Total |  | 100.00 |  |
5. Transportation |  | 15.19 |  |  | 107.60
| Motor vehicle costs | 7.75 | 51.01 | 94.59 |
| Gasoline and motor oil | 3.06 | 20.15 | 111.08 |
| Maintenance and repairs | 1.33 | 8.78 | 107.19 |
| Vehicle insurance | 2.02 | 13.28 | 94.17 |
| Public transportation | 1.03 | 6.78 | 221.98 |
| PEG Total |  | 100.00 |  |
6. Medical |  | 4.77 |  |  | 113.44
| Health insurance | 2.75 | 57.56 | 108.13 |
| Medical services | 1.15 | 24.18 | 122.89 |
| Drugs and medical supplies | 0.87 | 18.26 | 117.68 |
| PEG Total |  | 100.00 |  |
7. Recreation |  | 4.50 |  |  | 108.90
| Fees and admissions | 1.13 | 25.10 | 110.72 |
| Television, radios, sound equipment | 0.73 | 16.13 | 101.70 |
| Pets, toys, and playground equipment | 0.79 | 17.52 | 126.81 |
| Other entertainment supplies, etc. | 0.46 | 10.28 | 97.78 |
| Personal care products | 0.63 | 13.92 | 120.19 |
| Personal care services | 0.49 | 10.97 | 90.39 |
| Reading | 0.27 | 6.08 | 95.25 |
| PEG Total |  | 100.00 |  |
8. Education and Communication |  | 4.59 |  |  | 119.51
| Education | 0.20 | 4.46 | 24.07 |
| Communications | 4.12 | 89.69 | 125.35 |
| Computers and computer services | 0.27 | 5.85 | 102.89 |
| PEG Total |  | 100.00 |  |
9. Miscellaneous |  | 13.26 |  |  | 102.31
| Tobacco products, etc | 0.39 | 2.94 | 143.34 |
| Miscellaneous | 1.47 | 11.09 | 109.36 |
| Personal insurance and pensions | 11.40 | 85.97 | 100.00 |
| PEG Total |  | 100.00 |  |
Overall Price Index | MEG Total | 100.00 |  |  | 111.08
Plus Adjustment Factor |  |  |  |  | 9.00
Index Plus Adjustment Factor |  |  |  |  | 120.08

Appendix 8.—Final Living-Cost Results for the Rest of the State of Alaska
Anchorage results: Major expenditure group (MEG) | Anchorage results: Primary expenditure group (PEG) | Anchorage results: MEG weight (percent) | Anchorage results: PEG weight (percent) | Anchorage results: PEG index | Anchorage results: MEG index | Kodiak relative to: Anchorage: PEG index * | Kodiak relative to: Anchorage: MEG index * | Kodiak relative to: DC: MEG index
Rest of the State of Alaska 2006 (Based on Kodiak)
1. Food |  | 12.45 |  |  | 114.47 |  | 134.00 | 153.39
| Cereals and bakery products | 0.82 | 6.56 | 130.90 |  |  |  |
| Meats, poultry, fish, and eggs | 1.65 | 13.22 | 112.00 |  |  |  |
| Dairy products | 0.58 | 4.69 | 116.52 |  |  |  |
| Fruits and vegetables | 0.80 | 6.45 | 149.82 |  |  |  |
| Processed foods | 1.37 | 11.00 | 112.59 |  |  |  |
| Other food at home | 0.35 | 2.84 | 115.87 |  |  |  |
| Nonalcoholic beverages | 0.48 | 3.88 | 109.84 |  |  |  |
| Food away from home | 5.28 | 42.43 | 107.62 |  |  |  |
| Alcoholic beverages | 1.11 | 8.92 | 115.82 |  |  |  |
| PEG Total |  | 100.00 |  |  |  |  |
2. Shelter and Utilities |  | 36.91 |  |  | 90.97 |  | 124.05 | 112.85
| Shelter | 32.92 | 89.19 | 86.46 |  | 126.97 |  |
| Energy utilities | 3.35 | 9.07 | 133.31 |  | 100.00 |  |
| Water and other public services | 0.64 | 1.75 | 101.41 |  | 100.00 |  |
| PEG Total |  | 100.00 |  |  |  |  |
3. Household Furnishings and Supplies |  | 4.76 |  |  | 102.07 |  | 125.37 | 127.98
| Household operations | 1.21 | 25.37 | 100.13 |  | 100.00 |  |
| Housekeeping supplies | 1.08 | 22.63 | 103.40 |  | 134.00 |  |
| Textiles and area rugs | 0.28 | 5.91 | 98.07 |  | 134.00 |  |
| Furniture | 0.76 | 15.99 | 115.41 |  | 134.00 |  |
| Major appliances | 0.30 | 6.39 | 108.50 |  | 134.00 |  |
| Small appliances, misc. housewares | 0.22 | 4.53 | 78.97 |  | 134.00 |  |
| Misc. household equipment | 0.91 | 19.19 | 96.53 |  | 134.00 |  |
| PEG Total |  | 100.00 |  |  |  |  |
4. Apparel and Services |  | 3.57 |  |  | 131.61 |  | 134.00 | 176.36
| Men and boys | 0.72 | 20.08 | 146.00 |  |  |  |
| Women and girls | 1.42 | 39.71 | 131.78 |  |  |  |
| Children under 2 | 0.11 | 3.13 | 106.95 |  |  |  |
| Footwear | 0.73 | 20.45 | 108.55 |  |  |  |
| Other apparel products and services | 0.59 | 16.63 | 146.81 |  |  |  |
| PEG Total |  | 100.00 |  |  |  |  |
5. Transportation |  | 15.19 |  |  | 108.74 |  | 119.58 | 130.03
| Motor vehicle costs | 7.75 | 51.01 | 98.35 |  | 134.00 |  |
| Gasoline and motor oil | 3.06 | 20.15 | 94.97 |  | 111.09 |  |
| Maintenance and repairs | 1.33 | 8.78 | 99.19 |  | 100.00 |  |
| Vehicle insurance | 2.02 | 13.28 | 129.52 |  | 100.00 |  |
| Public transportation | 1.03 | 6.78 | 199.44 |  | 100.00 |  |
| PEG Total |  | 100.00 |  |  |  |  |
6. Medical |  | 4.77 |  |  | 115.97 |  | 114.43 | 132.70
| Health insurance | 2.75 | 57.56 | 111.73 |  | 100.00 |  |
| Medical services | 1.15 | 24.18 | 127.90 |  | 134.00 |  |
| Drugs and medical supplies | 0.87 | 18.26 | 113.52 |  | 134.00 |  |
| PEG Total |  | 100.00 |  |  |  |  |
7. Recreation |  | 4.50 |  |  | 101.65 |  | 121.73 | 123.74
| Fees and admissions | 1.13 | 25.10 | 90.52 |  | 100.00 |  |
| Television, radios, sound equipment | 0.73 | 16.13 | 97.84 |  | 134.00 |  |
| Pets, toys, and playground equipment | 0.79 | 17.52 | 123.36 |  | 134.00 |  |
| Other entertainment supplies, etc | 0.46 | 10.28 | 95.32 |  | 134.00 |  |
| Personal care products | 0.63 | 13.92 | 112.08 |  | 134.00 |  |
| Personal care services | 0.49 | 10.97 | 92.73 |  | 100.00 |  |
| Reading | 0.27 | 6.08 | 98.04 |  | 134.00 |  |
| PEG Total |  | 100.00 |  |  |  |  |
8. Education and Communication |  | 4.59 |  |  | 113.94 |  | 101.99 | 116.20
| Education | 0.20 | 4.46 | 26.46 |  | 100.00 |  |
| Communications | 4.12 | 89.69 | 119.17 |  | 100.00 |  |
| Computers and computer services | 0.27 | 5.85 | 100.41 |  | 134.00 |  |
| PEG Total |  | 100.00 |  |  |  |  |
9. Miscellaneous |  | 13.26 |  |  | 102.32 |  | 101.00 | 103.34
| Tobacco products, etc | 0.39 | 2.94 | 154.82 |  | 134.00 |  |
| Miscellaneous | 1.47 | 11.09 | 106.35 |  | 100.00 |  |
| Personal insurance and pensions | 11.40 | 85.97 | 100.00 |  | 100.00 |  |
| PEG Total |  | 100.00 |  |  |  |  |
Overall Price Index | MEG Total | 100.00 |  |  | 102.81 |  |  | 123.82
Plus Adjustment Factor |  |  |  |  | 7.00 |  |  | 9.00
Index Plus Adjustment Factor |  |  |  |  | 109.81 |  |  | 132.82
* Except for rental data and indexes set at 100, all data are from the University of Alaska Fairbanks, June 2006.
Rental data are from Alaska Department of Labor and Workforce Development, 2006.
Indexes set to 100 assume costs in Kodiak are equal to those in Anchorage.

[FR Doc. E7-25297 Filed 1-2-08; 8:45 am]

BILLING CODE 6325-39-P